DEPARTMENT OF JUSTICE

Office of Juvenile Justice and Delinquency Prevention

[OJP (OJJDP)-1297]

Proposed Comprehensive Plan for Fiscal Year 2001

AGENCY: Office of Justice Programs, Office of Juvenile Justice and Delinquency Prevention, Justice.

ACTION: Notice of Proposed Program Plan for fiscal year 2001.

SUMMARY: The Office of Juvenile Justice and Delinquency Prevention is publishing this notice of its Proposed Comprehensive Plan for fiscal year (FY) 2001.

DATES: Comments must be received on or before November 13, 2000.

ADDRESSES: Comments may be mailed to John J. Wilson, Acting Administrator, Office of Juvenile Justice and Delinquency Prevention, 810 Seventh Street, NW., Washington, DC 20531.

FOR FURTHER INFORMATION CONTACT: Eileen M. Garry, Director, Information Dissemination Unit, at 202-307-0751. [This is not a toll-free number.]

SUPPLEMENTARY INFORMATION: The Office of Juvenile Justice and Delinquency Prevention (OJJDP) is a component of the Office of Justice Programs in the U.S. Department of Justice. Pursuant to the provisions of Section 204 (b)(5)(A) of the Juvenile Justice and Delinquency Prevention Act of 1974, as amended, 42 U.S.C. § 5601 et seq. (JJDP Act), the Acting Administrator of OJJDP is publishing for public comment a Proposed Comprehensive Plan describing the program activities that OJJDP proposes to carry out during fiscal year (FY) 2001 under Parts C and D of Title II of the JJDP Act, codified at 42 U.S.C. § 5651-5665a, 5667, 5667a. Taking into consideration comments received on this Proposed Comprehensive Plan, the Acting Administrator will develop and publish OJJDP's Final Comprehensive Plan describing the particular program activities that OJJDP intends to fund during FY 2001, using in whole or in part funds appropriated under Parts C and D of Title II of the JJDP Act.

OJJDP acknowledges that at this time its FY 2001 appropriation is not yet final. Depending on the outcome of these legislative actions, OJJDP may alter how its programs are structured and will make any necessary modifications to this Proposed Program Plan when it is published in final form following the public comment period. The proposals presented here represent OJJDP's current thinking and initial priorities for this fiscal year. These priorities also reflect feedback from OJJDP's ongoing outreach to the field asking for ideas on priority areas and the most promising types of programs for those areas.

Notice of the official solicitation of grant or cooperative agreement applications for competitive programs to be funded under the Final Comprehensive Plan will be published at a later date in the Federal Register. No proposals, concept papers, or other forms of application should be submitted at this time.

Background

In developing its program plan for Parts C and D each year, OJJDP must take into consideration the latest available data on U.S. juvenile crime and victimization and view these statistics in relation to those of recent years. In 1998 (the latest year for which data are available), the Nation experienced its fourth consecutive year of an unprecedented drop in the rate of juvenile arrests for a violent offense. The preliminary indications from the Federal Bureau of Investigation indicate that the number of arrests in 1999 also declined (although these numbers do not differentiate between arrests of adults and juveniles). Although the recent decline is encouraging, the arrest rate for youth is still higher than it was in the mid-1980's. From 1987 to 1994, the country saw a two-thirds increase in the violent crime arrest rate for juvenile males and a doubling for juvenile females. By 1998, though, the rate for males was just 24 percent above the 1987 rate and the rate for females was 85 percent higher than in 1987. (For more information, see the OJJDP 1999 Bulletin Juvenile Arrests 1998 by Howard N. Snyder. Copies of this publication and others cited in this Proposed Program Plan are available from OJJDP's Juvenile Justice Clearinghouse at 800-638-8736 or online at OJJDP's Web site at www.ojjdp.ncjrs.org.)

The social conditions facing youth have also changed. According to American's Children: Key National Indicators of Well-Being 2000, a publication of the Federal Interagency Forum on Child and Family Statistics, the poverty rate of children dropped to 18 percent in 1998 from its high of 22 percent in 1993. Deaths among adolescents age 15 to 19 continued to decline. In 1997, the mortality rate of this age group was 75 per 100,000, compared with the high of 89 per 1,000 seen in 1991. Declines in deaths from firearm injuries between 1994 and 1997 contributed to this drop. Since 1993, the rate of juvenile violent victimization has decreased from 44 victims per 1,000 juveniles ages 12-17 to 25 per 1,000. This decrease was present for virtually every demographic category.

On the other hand, many negative social indicators have remained at high levels. From 1980 to 1998, the percent of young adults ages 18 to 24 who had completed high school remained relatively flat at 85 percent. The prevalence of heavy drinking among adolescents has remained constant as has the prevalence of regular cigarette smoking. Illegal drug use among 8th, 10th, and 12th grade students has not changed from 1998 to1999. In fact, although drug use among 12th graders had declined in the 1980's, since 1992, illicit drug use has increased among this population. (For more information, see the American's Children: Key National Indicators of Well-Being 2000.)

Although the arrest rates for juveniles have dropped, the juvenile justice system still must deal with a very heavy case load of juvenile offenders. In 1997, the juvenile justice system held 105,790 individuals for offenses in residential facilities throughout the country. Although not strictly comparable to past numbers (because of different data collection methods), this number indicates an increase over the approximately 94,500 offenders held in residential placement in 1995. The Nation's juvenile courts handled 1.76 million delinquency cases in 1997. While this number had remained stable since 1996, it represented a 48-percent increase over the 1988 caseload. In 1997, juvenile courts sentenced 179,800 youth to out-of-home placement and another 645,600 to probation. The proportion of all cases in the courts receiving such dispositions did not change much from 1988 to 1997 (fluctuating mildly in the intervening years). However, by 1997 juvenile courts were sentencing more youth than ever to these dispositions because of the increase in the total number of cases handled. The benefits of a decreased arrest rate have yet to filter through the system to decrease rates of incarceration or probation.

Because of the dramatic changes in juvenile arrests and the state of youth in the country, concerns about the juvenile justice system have shifted over the past decade. While at the beginning of the 1990's some predicted a plague of violence caused by juveniles, the Nation now faces quite a different situation as a new millennium dawns. Today the challenge is to find solutions to a different set of related issues such as drug dependency, mental health care, and a large residential population of juvenile offenders. The decrease in juvenile arrests is not a signal to become lax in attending to the problems of youth. Instead, it should be considered a sign of encouragement to continue emphasizing the beneficial programs and the effective intervention efforts currently under way.

The causes of the downward trends in juvenile violence are complex. Current research cannot yet say with certainty what combination of programs and social factors led to this decline. However, national statistics and research point to community policing, gun violence prevention programs, gang intervention, school safety efforts, and prevention programs such as mentoring as effective factors in reducing juvenile violence and victimization. OJJDP will continue support of innovative programs, evaluation of these and other programs, research, and national data collection. With the results of these efforts, policymakers and practitioners will be in a better position to make informed choices in their mix of programs and approaches to best serve their communities. Their efforts will help to reinforce the existing trends away from juvenile violence and delinquency, and OJJDP is committed to continuing to support their work.

OJJDP's Proposed Program Plan for Fiscal Year 2001 focuses on solidifying the gains achieved in reducing the rate of juvenile arrests. It continues to emphasize programs that provide an environment for youth that encourages prosocial development. The Proposed Program Plan contains research and program evaluation projects that expand an understanding of why the final years of the 1990's were so beneficial for youth. It expands efforts to enhance the capacity of the juvenile justice system as a whole to make the right decisions for youth.

In this Proposed Comprehensive Plan, OJJDP describes its priorities for funding activities authorized under Part C (National Programs) and Part D (Gang-Free Schools and Communities; Community-Based Gang Intervention) of Title II of the Juvenile Justice and Delinquency Prevention (JJDP) Act. The activities authorized under Parts C and D constitute part, but not all, of OJJDP's overall responsibilities, which are outlined briefly below.

In 1974, the JJDP Act established OJJDP as the Federal agency responsible for providing national leadership, coordination, and resources to develop and implement effective methods to prevent and reduce juvenile delinquency and improve the quality of juvenile justice in the United States. OJJDP administers State Formula Grants under Part B of Title II, State Challenge Grants under Part E of Title II, and Community Prevention Grants under Title V of the JJDP Act to assist States and territories to fund a range of delinquency prevention, control, and juvenile justice system improvement activities. OJJDP provides support activities for these and other programs under statutory set-asides that are used to provide related research, evaluation, statistics, demonstration, and training and technical assistance services.

Under Part C of Title II of the JJDP Act, OJJDP funds Special Emphasis programs and—through its National Institute for Juvenile Justice and Delinquency Prevention— numerous research, evaluation, statistics, demonstration, training and technical assistance, and information dissemination activities. OJJDP funds school and community-based gang prevention, intervention, and suppression programs under Part D and mentoring programs under Part G of Title II of the JJDP Act. OJJDP also coordinates Federal activities related to juvenile justice and delinquency prevention through the Concentration of Federal Efforts Program and serves as the staff agency for the Coordinating Council on Juvenile Justice and Delinquency Prevention; both of these activities are authorized in Part A of Title II of the JJDP Act. Another OJJDP responsibility under the JJDP Act is to administer the Title IV Missing and Exploited Children's Program.

Other programs administered by OJJDP include the Drug Prevention Program, the Enforcing Underage Drinking Laws Program, the Safe Schools Initiative, the Tribal Youth Program, the Safe Start: Children Exposed to Violence Initiative, and the Juvenile Accountability Incentive Block Grants program. OJJDP also administers programs under the Victims of Child Abuse Act of 1990, as amended, 42 U.S.C. 13001 et seq.

OJJDP focuses its funding and support activities on the development and implementation of programs with the greatest potential for reducing juvenile delinquency and improving the juvenile justice system by establishing partnerships with State and local governments, American Indian and Alaska Native jurisdictions, and public and private agencies and organizations. OJJDP performs its role of national leadership in juvenile justice and delinquency prevention through a cycle of activities. These include collecting data and statistics to determine the extent and nature of issues affecting juveniles; supporting research studies that can lead to program demonstrations; testing and evaluating demonstration projects; sharing lessons learned from the field with practitioners through a range of information dissemination vehicles; providing seed money to States and local governments through formula and block grants to implement programs, projects, or reform efforts; and providing training and technical assistance to assist States and local governments to implement programs effectively and to maintain the integrity of model programs as they are being replicated.

As noted previously, OJJDP is a component of the Office of Justice Programs (OJP). This Department of Justice agency emphasizes the importance of coordination among its components and with other Federal agencies whenever possible in order to obtain maximum results from OJP programs and initiatives. OJJDP's coordination efforts include joint funding, interagency agreements, and partnerships to develop, implement, and evaluate projects. This proposed plan reflects OJJDP's coordination efforts. For a more complete picture of OJP program activities that affect the field of juvenile justice, readers are encouraged to review the Office of Justice Programs Fiscal Year 2001 Program Plan when it becomes available. (Readers should check the OJP Web site at www.ojp.usdoj.gov periodically for an announcement of the availability of the OJP Program Plan.)

Fiscal Year 2001 Program Planning Activities

The OJJDP program planning process for FY 2001 is being coordinated with the Acting Assistant Attorney General, Office of Justice Programs, and all OJP components. The program planning process involves the following steps:

• Internal review of existing programs by OJJDP staff.

• Internal review of proposed programs by OJP bureaus and Department of Justice components.

• Review of information and data from OJJDP grantees and contractors.

• Review of information contained in State comprehensive plans.

• Review of comments from youth service providers, juvenile justice practitioners, and researchers who provide input in proposed new program areas.

• Consideration of suggestions made by juvenile justice policymakers concerning State and local needs.

• Consideration of all comments received during the period of public comment on this Proposed Comprehensive Plan.

Discretionary Grant Continuation Policy

OJJDP has listed on the following pages continuation projects currently funded in whole or in part with Part C and Part D funds and eligible for continuation funding in FY 2001, either within an existing project period or through an extension for an additional project or budget period. A grantee's eligibility for continued funding for an additional budget period within an existing project period depends on the grantee's compliance with funding eligibility requirements and achievement of the prior year's objectives. The amount of award is based on prior projections, demonstrated need, and fund availability.

The only projects described in this Proposed Program Plan are those that would receive Part C or Part D FY 2001 continuation funding under project period or discretionary continuation assistance awards and program areas that OJJDP is considering for new awards under Part C or Part D in FY 2001. This plan does not include descriptions of other OJJDP programs, including mentoring programs under Part G of Title II of the JJDP Act, the Drug Prevention Program, the Enforcing Underage Drinking Laws Program, the Safe Schools Initiative, the Tribal Youth Program, the Safe Start: Children Exposed to Violence Initiative, and the Juvenile Accountability Incentive Block Grants Program. When appropriate, OJJDP issues separate solicitations for applications for funding for these or other programs that are not authorized under Parts C and D. Readers interested in learning about all OJJDP funding opportunities are encouraged to call OJJDP's Juvenile Justice Clearinghouse at 800-638-8736 or visit OJJDP's Web site at www.ojjdp.ncjrs.org and click on “Grants & Funding.”

Consideration for continuation funding for an additional project period for previously funded discretionary grant programs will be based on several factors, including the following:

• The extent to which the project responds to the applicable requirements of the JJDP Act.

• Responsiveness to OJJDP and Department of Justice FY 2001 program priorities.

• Compliance with performance requirements of prior grant years.

• Compliance with fiscal and regulatory requirements.

• Compliance with any special conditions of the award.

• Availability of funds (based on appropriations and program priority determinations).

In accordance with Section 262 (d)(1)(B) of the JJDP Act, as amended, 42 U.S.C. 5665a, the competitive process for the award of Part C funds is not required if the (Acting) Administrator makes a written determination waiving the competitive process:

1. With respect to programs to be carried out in areas in which the President declares under the Robert T. Stafford Disaster Relief and Emergency Assistance Act codified at 42 U.S.C. 5121 et seq. that a major disaster or emergency exists, or

2. With respect to a particular program described in Part C that is uniquely qualified.

Introduction to Fiscal Year 2001 Program Plan

In administering the discretionary grants program under Parts C and D of Title II, OJJDP has identified four goals as the major elements of a sound policy that ensures public safety and security while establishing effective juvenile justice and delinquency prevention programs. Achieving these goals, which are discussed below, is vital to protecting the long-term safety of the public from juvenile delinquency and violence.

• OJJDP promotes delinquency prevention and early intervention efforts that reduce the flow of juvenile offenders into the juvenile justice system, the numbers of serious and violent offenders, and the development of chronic delinquent careers. While removing serious and violent juvenile offenders from the street serves to protect the public, long-term solutions lie primarily in taking aggressive steps to stop delinquency before it starts or becomes a pattern of behavior.

• OJJDP seeks to improve the juvenile justice system and the response of the system to juvenile delinquents, status offenders, and dependent, neglected, and abused children.

• OJJDP supports efforts in the area of corrections, detention, and community-based alternatives to preserve the public safety in a manner that serves the appropriate development and best use of secure detention and corrections options, while at the same time fostering the use of community-based programs for juvenile offenders.

• OJJDP seeks to support law enforcement, public safety, and other justice agency efforts to prevent juvenile delinquency, intervene in the development of chronic delinquent careers, and collaborate with the juvenile justice system to meet the needs of dependent, neglected, and abused children.

In 1993, OJJDP published its Comprehensive Strategy for Serious, Violent, and Chronic Juvenile Offenders, which set forth a research-based comprehensive approach for addressing the problems of juvenile crime and victimization and for achieving its program goals. The Comprehensive Strategy was developed to assist States and local communities in preventing at-risk youth from becoming serious, violent, and chronic juvenile offenders and in crafting a practical response to those who do. Since 1995, OJJDP has utilized the Guide for Implementing the Comprehensive Strategy for Serious, Violent, and Chronic Juvenile Offenders, developed in partnership with consultant experts in the fields of prevention and graduated sanctions, which has been the blueprint for providing training and technical assistance to over 40 local communities in eight States in the development of local strategic plans based on the Comprehensive Strategy. This comprehensive strategic planning process involves a systematic method which utilizes data and research-based best practices and programs to fill identified gaps in services to youth and families. The desired product of this planning effort is a 5-year strategic plan supported by all the stakeholders within that community. The lessons learned from the Federal, State, and local partnerships developed through the Comprehensive Strategy Training and Technical Assistance Initiative are currently enhancing the well-being of the children and families in many of those communities and are assisting OJJDP in providing guidance and direction to many other State agencies and local jurisdictions seeking assistance in the development of this strategic planning approach designed to prevent, reduce and control juvenile delinquency.

This Proposed Plan also supports the Coordinating Council's 1996 National Juvenile Justice Action Plan, which grew out of the Comprehensive Strategy. This Action Plan, which the Coordinating Council is currently updating, provides eight objectives designed to reduce juvenile violence and describes ways to meet these objectives. Together, the Comprehensive Strategy and the Action Plan constitute a sound strategy for translating innovation and research findings to infrastructure.

Continuation Programs

OJJDP organizes its proposed programs under four broad categories that reflect its program goals and the principles of the Comprehensive Strategy. These categories are Public Safety and Law Enforcement, Delinquency Prevention and Intervention, Strengthening the Juvenile Justice System, and Child Abuse and Neglect and Dependency Courts. An additional category (Overarching) contains programs with significant elements common to more than one of the other four categories. Descriptions of the specific programs in each of the five categories appear after the discussion of new programs below.

New Programs

Because the FY 2001 Proposed Comprehensive Plan is being published prior to the enactment of the FY 2001 appropriation, proposed new programming is outlined from the highest to the lowest priority. If there is sufficient funding to support new programs in addition to those proposed for continuation funding, OJJDP proposes to develop new programs in 12 broad subject areas. The public is asked to comment on the proposed new programs, which are described briefly below, and suggest additional priority areas for funding consideration.

1. Helping Families Navigate the Juvenile Justice System

OJJDP proposes to support a range of advocacy services for families designed to help them understand and navigate the juvenile justice system, learning how they can appropriately and productively interact with the various entities in the system to meet their child's needs. Referral to services that can assist children and their families meet their needs would also be an important component of this effort. Possible approaches to be considered include support to private organizations that have experience in working with non-English-speaking families or providing advocacy and support for parenting networks in the community.

2. Addressing the Problem of Juvenile Sex Offending

This program area was identified in the FY 2000 Program Plan and is included again in the Proposed FY 2001 Program Plan because of the many requests from the juvenile justice field and the public for information on effective sex offender treatment programs and model community responses to prevent sexual victimization. OJJDP is considering support for evaluations of treatment models for juvenile sex offenders that are currently in use. In addition, OJJDP is considering a study that examines the effects of State registration and notification legislation on juvenile sex offenders. This work would build upon the development of a juvenile sex offender typology currently being funded by OJJDP. It will also respond to the needs of practitioners and policymakers by increasing the accessibility and strategic use of accurate information about the nature, extent, and impact of juvenile sex offending through a training, technical assistance, and information dissemination program to be funded in FY 2001.

3. Preparing Juvenile Offenders for Reentry Into Their Communities

OJJDP proposes to develop several programs designed to facilitate juvenile offenders' reentry into the community from out-of-home placements. Two of these would focus specifically on improving education and training resources within correctional facilities. The first would teach juveniles to design, build, and maintain computer networks through Cisco Systems' Cisco Networking Academy Program. The second would develop and implement a pilot demonstration of a model correctional education program in both a juvenile detention facility and a correctional facility. The latter project would be an extension of prior work funded by OJJDP to provide assistance in addressing the literacy needs of juvenile offenders. OJJDP is also proposing to expand its work on juvenile aftercare services to target specialized populations such as adolescent female offenders, minority youth, and juvenile offenders with mental health and substance abuse problems and to assess the lessons learned about institutional programming for serious and violent juvenile offenders.

4. Helping Youth and Families Prevent Violence

OJJDP proposes to expand its violence prevention activities by focusing on children who can be taught peaceful ways of resolving problems, families who can be counseled regarding violence prevention, and teachers who must effectively manage their classrooms. One proposed project would develop violence prevention protocols for pediatricians similar to those developed around unintentional injuries such as motor vehicle accidents. This project would respond to the need to address homicide and other injuries caused by interpersonal violence. Children must also be taught to avoid violence, and OJJDP proposes to expand its work on bullying prevention by providing training and technical assistance to schools to implement the highly successful and proven program of Dr. Dan Olweus, the Principal Investigator who developed, refined, and systematically evaluated the Bullying Prevention Program in Norway. The program is one of the Blueprints for Violence Prevention (see the Blueprints program description below, under the Strengthening the Juvenile Justice System category of programs). OJJDP is also considering expanding training and technical assistance resources to new teachers in effective classroom and conflict management. From lessons learned in North Carolina, OJJDP would focus on changing practices in colleges of education and State boards of education, which have responsibility to create and manage the training of new teachers.

5. Assessing and Meeting the Needs of Status Offenders and Other Youth Upon Initial Contact With the Juvenile Justice System

OJJDP is proposing to fund a program that would identify the best practices and programs from around the country that are effective in dealing with such status offenses as truancy, running away, curfew violations, alcohol possession and use, and incorrigibility. Juveniles who commit status offenses may be taking a first step into the juvenile justice system that will escalate into delinquent behavior. Prevention and treatment through early intervention at this stage have proven to be less expensive and more effective than efforts to change subsequent delinquent behavior.

OJJDP is also considering expanded support for two existing programs that address the needs of youth when they first come to the attention of law enforcement. One program would provide guidelines, materials, training, and technical assistance to the two currently funded Community Assessment Centers. These Centers operate as a single point of entry into the juvenile justice and the youth services systems, provide immediate and comprehensive assessment and integrated case management, and operate an appropriate management information system (MIS). OJJDP is also proposing to expand support for the Child Development-Community Policing model to support program implementation in the current replication sites. These ongoing collaborations between law enforcement and mental health professionals are designed to better address children's exposure to violence, which has been shown to be a risk factor for future problem behaviors.

6. Studying Fetal Alcohol Syndrome (FAS) and Fetal Alcohol Effects (FAE) as Risk Factors for Delinquency

Fetal Alcohol Syndrome and Fetal Alcohol Effects (FAS/FAE) are associated with a specific set of neurobehavioral deficits that predispose affected individuals to delinquent and other high risk behaviors. A significant percentage of youth in detention and secure corrections may be affected by undiagnosed FAS/FAE. Traditional juvenile justice system programs are not designed to serve this population, and youth with FAS/FAE, once involved with the juvenile justice system, are likely to experience a high rate of recidivism. OJJDP proposes to support a study to assess the rate of FAS/FAE youth within the juvenile justice system, determine what services are available, and develop screening and individualized case management and planning to better serve youth affected by FAS/FAE.

7. Supporting Field-Initiated Research, Demonstration, and Evaluation Programs

OJJDP proposes to support field-initiated research, demonstration, and evaluation projects that have the potential to provide valuable information to policymakers and practitioners, complement the new and current programs outlined in this Proposed Program Plan, and support OJJDP's mission in significant and creative ways. Topics explored in past OJJDP-funded field-initiated research include mental health issues in the juvenile justice system; juvenile justice system operations, sanctions, and treatments; programs for at-risk and female juvenile offenders; and delinquency prevention.

8. Expanding the Use of Cost-Benefit Analyses

OJJDP is interested in expanding the uses of cost-benefit analyses in juvenile justice. Up to now, their use has been limited to select States or localities. As a first step to promoting the greater use of this method for assessing programs, OJJDP would convene a group of experts in the fields of policy analysis, economics, and juvenile justice to determine how cost-benefit analyses can best be used for juvenile justice policy analysis. Following the development of a set of recommended analyses, OJJDP would support the development of a guide containing information on methodology, data collection instruments, and a set of standard cost estimates.

9. Increasing the Capacity and Effectiveness of Juvenile Probation

Despite the acknowledgment that probation is the “workhorse” of the juvenile justice system and many courts are dependent upon probation officers to assist them by recommending appropriate dispositions in juvenile cases, probation officers often receive only limited training before assuming their important roles and scant in-service training opportunities. OJJDP proposes to fund the development of a probation officer curriculum and to provide limited technical assistance to juvenile probation officers and their agencies. One training curriculum would be for supervisory staff, a second one for field officers.

10. Understanding Youth Gangs in Chronic Gang Cities

OJJDP proposes to combine multiple state-of-the-art methods for understanding youth gangs through a single coordinated research project in two or more large population, chronic gang cities. The study would focus on comparing gangs representing mutiple racial/ethnic groups (e.g., predominately African American, Hispanic, Asian, White, American Indian, or mixed). Research questions would include how different ethnic gangs vary in gang structure and group processes, what factors predict peaks and valleys in gang offending across each of the ethnic groups over time, and what prevention, intervention, and suppression approaches are most appropriate to respond to ethnic variations across a chronic gang city. Some of the methodological approaches that would be employed include analysis of incident-level law enforcement data, crime and resource mapping systems, school risk-factor surveys, qualitative field studies, and gang member interviews.

11. Integrating Culturally Sensitive and Culturally Competent Strategies To Prevent Disproportionate Minority Confinement

OJJDP proposes to identify current best practices and provide specialized training and technical assistance to assist States in their efforts to address disproportionate minority confinement. While many program managers have made the initial step of broadening existing programming by hiring minority staff, a comprehensive approach to culturally sensitive and competent programming is needed. Experts in the field of culturally competent program design and implementation would provide targeted support to assist States in broadening the scope of current delinquency prevention programs. This initiative would provide a critical tool in the implementation of States' compliance with the disproportionate minority confinement core protection.

12. Expanding the Comprehensive Strategy Program

Recognizing the success of the research-based Comprehensive Strategy for Serious, Violent, and Chronic Juvenile Offenders since its inception in 1993, this project would promote the expansion of the Comprehensive Strategy Program by supporting planning and implementation in up to eight new States and/or localities. In addition, this project would support the development or refinement of management information systems in communities developing or implementing the Comprehensive Strategy Program.

Fiscal Year 2001 Programs

The programs that OJJDP proposes to fund in FY 2001 are listed alphabetically and summarized within each of the five categories discussed previously: Overarching, Public Safety and Law Enforcement, Strengthening the Juvenile Justice System, Delinquency Prevention and Intervention, and Child Abuse and Neglect and Dependency Courts.

With regard to implementation sites and other descriptive data and information, program priorities within each category will be determined based on grantee performance, application quality, fund availability, and other factors.

As part of the appropriations process, Congress is likely to identify a number of programs for funding consideration with regard to the grantee(s), the amount of funds, or both. These programs will be listed in the Final Program Plan. Congress is also likely to direct OJJDP to examine certain programs, provide assistance to them if warranted, and report to the Committees on Appropriations of both the House and the Senate on its intention for each one. These programs will also be listed in the Final Program Plan.

Fiscal Year 2001 Program Listing

Overarching

Coalition for Juvenile Justice

Insular Area Support

Juvenile Justice Clearinghouse

Juvenile Justice Statistics and Systems Development Program

National Resource Center for Safe Schools

National Training and Technical Assistance Center

OJJDP Management Evaluation Contract

OJJDP Technical Assistance Support Contract—Juvenile

Justice Resource Center

Program of Research on the Causes and Correlates of Delinquency

SafeFutures: Partnerships To Reduce Youth Violence and Delinquency

Technical Assistance for State Legislatures

Telecommunications Assistance

Training and Technical Assistance Coordination for the SafeFutures Initiative

Public Safety and Law Enforcement

Evaluation of the Comprehensive Community-Wide Approach to Gang Prevention, Intervention, and Suppression Program

Evaluation of the Partnerships to Reduce Juvenile Gun Violence Program

Evaluation of the Rural Gang Initiative

Evaluation of the Transfer of Responsibility for Child Protective Investigations to Law Enforcement Agencies

Gang Prevention Through Targeted Outreach (Boys & Girls Clubs)

Juvenile Justice Law Enforcement Training and Technical Assistance Program

Mesa Gang Intervention Project (MGIP)

National Youth Gang Center

Rural Gang Initiative Demonstration Sites

Technical Assistance to the Gang-Free Schools and Communities Initiatives

Delinquency Prevention and Intervention

Assessing Alcohol, Drug, and Mental (ADM) Disorders Among Juvenile Detainees

The Chicago Project for Violence Prevention

Communities in Schools

Diffusion of State Risk- and Protective-Factor-Focused Prevention

Do the Write Thing Challenge Program

Evaluation of the Truancy Reduction Demonstration Program

Intergenerational Transmission of Antisocial Behavior

Investing in Youth for A Safer Future— A Public Education Campaign

Multisite, Multimodal Treatment Study of Children With Attention Deficit/Hyperactivity Disorder

Risk Reduction Via Promotion of Youth Development

Strengthening Services for Chemically Involved Children, Youth, and Families

Study of the Marketing of Age-Restricted Violent Entertainment to Children

Technical Assistance for Community Prevention Programs—Title V

Truancy Reduction Demonstration Program

Strengthening the Juvenile Justice System

Balanced and Restorative Justice (BARJ) Training Project

Blueprints for Violence Prevention: Training and Technical Assistance

Building Blocks for Youth

Census of Juveniles in Residential Placement

Center for Students With Disabilities in the Juvenile Justice System

Comprehensive Children and Families Mental Health Training and Technical Assistance

Connecticut/Cook County (IL) Girls Collaborative

Development of the Comprehensive Strategy for Serious, Violent, and Chronic Juvenile Offenders

Evaluation of the Department of Labor's Education and Training for Youthful Offenders Initiative

Evaluation of the Performance-Based Standards Project

Evaluation of SafeFutures

Juvenile Defender Training, Technical Assistance, and Resource Center

The Juvenile Justice Prosecution Unit

Juvenile Residential Facility Census

Longitudinal Study to Examine the Development of Conduct Disorder in Girls

National Juvenile Justice Data Analysis Project

National Juvenile Justice Program Directory

The National Longitudinal Survey of Youth 97

Performance-Based Standards for Juvenile Correction and Detention Facilities

Study Group on Very Young Offenders

Systems Improvement Training and Technical Assistance

Survey of Juvenile Probation

Technical Assistance to Native American Tribes and Alaskan Native Communities

TeenSupreme Career Preparation Initiative

Child Abuse and Neglect and Dependency Courts

National Evaluation of the Safe Kids/Safe Streets Program

Safe Kids/Safe Streets: Community Approaches to Reducing Abuse and Neglect and Preventing Delinquency

Overarching

Coalition for Juvenile Justice

This project supports the Coalition for Juvenile Justice, an organization composed of member representatives of State Advisory Groups appointed by State Governors under section 223(a)(3) of the JJDP Act to establish policies and priorities for the Formula Grants program. Pursuant to statutory requirements, the Coalition will: conduct an annual conference of member representatives; disseminate information on data, standards, advanced techniques, and program models developed and funded by OJJDP; offer training on how to work with the media on juvenile justice issues; review Federal policies regarding juvenile justice and delinquency prevention; advise the Administrator with respect to the work of OJJDP; and advise the President and Congress with regard to State perspectives on the operation of the Office and Federal legislation pertaining to juvenile justice and delinquency prevention.

This project would be implemented by the current grantee, the Coalition for Juvenile Justice. No additional applications would be solicited in FY 2001.

Insular Area Support

The purpose of this statutorily required program is to provide support to the U.S. Virgin Islands, Guam, American Samoa, and the Commonwealth of the Northern Mariana Islands. Funds are available to address the special needs and problems of juvenile delinquency in these insular areas, as specified by Section 261(e) of the JJDP Act of 1974, as amended, 42 U.S.C. 5665(e).

Juvenile Justice Clearinghouse

A component of the National Criminal Justice Reference Service (NCJRS), the Juvenile Justice Clearinghouse (JJC) collects, synthesizes, and disseminates information on all aspects of juvenile justice. OJJDP established the Clearinghouse in 1979 to serve the juvenile justice community, legislators, the media, and the public. JJC offers toll-free telephone access to information; prepares specialized responses to information requests; produces, warehouses, and distributes OJJDP publications; exhibits at national conferences; maintains a comprehensive juvenile justice library and database; and administers several electronic information resources. NCJRS is administered by the National Institute of Justice (NIJ) under a competitively awarded contract to Aspen Systems Corporation.

This program will be implemented by the current contractor, Aspen Systems Corporation. No additional applications will be solicited in FY 2001.

Juvenile Justice Statistics and Systems Development Program

The Juvenile Justice Statistics and Systems Development (SSD) Program was competitively awarded in 1990 to the National Center for Juvenile Justice (NCJJ) to improve national, State, and local statistics on juveniles as victims and offenders. The SSD project has traditionally consisted of three tracks of work: National Statistics, Dissemination, and Systems Development. In FY 2001, NCJJ would continue many activities under the first two tracks, including maintaining an extensive library of data files, producing Easy Access software packages and the Web-based OJJDP Statistical Briefing Book, and continuing to service requests for juvenile justice information. In FY 2000, additional funding from OJJDP allowed NCJJ to enhance activities under the Systems Development track of the project. This work would continue with FY 2001 funding.

To meet the challenge of managing the cases of youth within their jurisdiction effectively and efficiently, juvenile court administrators and judges need ready access to information that will support the operation, management, and decisionmaking of the full-service juvenile court system. Knowledge-based decisionmaking (which should be the hallmark of every juvenile justice system) requires not just the collection of data but the collaboration of the community leaders who will give meaning to the data. This was the focus of the recently released book Juvenile Justice With Eyes Open, published in FY 2000 as part of the Statistics and Systems Development Project (Systems Development Track). Also in FY 2000, NCJJ used the principles outlined in this publication to develop and field-test an approach that local jurisdictions can employ to systematically identify and fulfill their local information needs. This includes training local juvenile justice leaders in the rational decisionmaking model (RDM) as a design tool for management information systems; developing data specifications for an effective information system to meet operational, management, and research needs; identifying data needs from collateral service providers and data that will be of use to collaterals; and modeling agreements and protocols with collateral service providers to share case-level and/or aggregate data. Field-testing would continue in FY 2001.

This project would be implemented by the current grantee, the National Center for Juvenile Justice. No additional applications would be solicited in FY 2001.

National Resource Center for Safe Schools

Since 1984, OJJDP and the U.S. Department of Education have provided joint funding to promote safe schools. This work has focused national attention on cooperative solutions to problems that disrupt the educational process. Because an estimated 3 million incidents of crime occur in America's schools each year, it is clear that this problem continues to plague many schools, threatening students' safety and undermining the learning environment. With FY 1998 funding, the U.S. Department of Education's Safe and Drug-Free Schools Program and OJJDP established the National Resource Center for Safe Schools for a 3-year project period. This project expanded the scope and provision of previous training and technical assistance to communities and school districts across the country. The grantee is working to help schools develop and put in place comprehensive safe school plans. It does this by providing onsite training and consultation to schools and communities, creating and distributing resource materials and tools, providing Web-based information services, and partnering with State-level agencies to build State capacity to assist local education agencies. Through the inclusion on the project's Advisory Committee of representatives of Hamilton Fish National Institute on School and Community Violence and other school-related training and technical assistance providers, this project has developed training materials and information resources based on the latest research findings on effective programs and best practices.

The grantee provided information, training, and/or technical assistance to more than 7,000 recipients. In addition, the grantee developed a curriculum for comprehensive school planning, trained six school districts in South Carolina, conducted two regional conferences, issued and distributed a quarterly newsletter, and convened a national Advisory Committee Meeting.

During FY 2001, the National Resource Center for Safe Schools will—

• Prepare and distribute topical fact sheets and case studies.

• Provide training to a national network of trainees through “training of trainers.”

• Conduct regional conferences on safe school topics.

• Provide tailored onsite training and technical assistance.

A new solicitation would be issued and a grant awarded through a competitive process in FY 2001.

National Training and Technical Assistance Center

The National Juvenile Justice and Delinquency Prevention Training and Technical Assistance Center (NTTAC) was established in FY 1995 under a competitive 3-year project period award. NTTAC serves as a national training and technical assistance repository, inventorying and coordinating the integrated delivery of juvenile justice training and technical assistance resources and establishing a database of these resources. NTTAC convened the first in a series of annual OJJDP training and technical assistance grantee-contractor meetings that are used for sharing of information, development of policies, and collaboration and coordination of efforts. NTTAC's funding in FY 1996 provided services in the form of coordinated technical assistance support for OJJDP's SafeFutures and gang program initiatives, continued promotion of collaboration between OJJDP training and technical assistance providers, developed training and technical assistance materials, and completed and disseminated the first OJJDP Training and Technical Assistance Resource Catalog.

In FY 1997, NTTAC disseminated a second, updated Training and Technical Assistance Resource Catalog; created a Web site for the Center and a ListServ for the Children, Youth and Affinity Group; held three focus groups on needs assessments; and coordinated and provided 38 instances of technical assistance in conjunction with OJJDP's training and technical assistance grantees and contractors. In FY 1998, NTTAC finalized the jurisdictional team training and technical assistance packages on critical needs in the juvenile justice system, updated the resource catalog, facilitated the annual OJJDP training and technical assistance grantee and contractor meeting, developed a bimonthly newsletter (NTTAC News), continued to update the repository of training and technical assistance materials and the electronic database of training and technical assistance materials, and continued to respond to training and technical assistance requests from the field. In FY 1999, NTTAC was operated by the Juvenile Justice Clearinghouse, which provided clearinghouse services and maintained the 800 number. The fourth grantee-contractor meeting was conducted by OJJDP staff in Chicago, and the training and technical assistance protocols developed in 1998 were reviewed in preparation for final issuance. In FY 2000, a competitive 1-year contract was awarded to Caliber Associates to continue implementation of the Center. The Center has completed a number of tasks, including implementing the OJJDP Training, Technical Assistance, and Evaluation Protocols, developing three supplemental technical assistance packages on corrections, developing a protocol for ensuring cultural competency in the delivery of training and technical assistance, issuing the NTTAC newsletter, redesigning the NTTAC Web site, developing and pilot testing a training and technical assistance data collection instrument in support of the development of an Office of Justice Programs comprehensive training and technical assistance database, updating the resource catalog, and convening the 5th Annual OJJDP Training and TA Grantee and Contractor Meeting.

In FY 2001, the Center would continue developing marketing materials and managing the brokering of training and technical assistance requests received by the Center via the 800 number, e-mail, and the Web site. The contractor would also redesign and increase the capacity of the NTTAC Web site, increase the capacity of the Center resource repository, redesign the Center's database and resource catalog using the training and technical assistance data collection instrument developed and tested in FY 2000, provide train-the-trainers workshops for OJJDP grantee-contractors, provide technical support on curriculum development and specialized technical assistance protocols, and develop fact sheets, bulletins, and newsletters.

A new solicitation would be issued and a contract awarded through a competitive contract action in FY 2001.

OJJDP Management Evaluation Contract

This contract was competitively awarded in FY 1999 to Caliber Associates for a period of 4 years to provide OJJDP with an expert resource to perform independent program evaluations and assist in implementing evaluation activities. Caliber is currently conducting a national evaluation of Title V—Community Prevention Grants for Local Delinquency Prevention Programs. The evaluation is designed to examine the viability and effectiveness of the Title V delinquency prevention model. To address the research questions, the evaluation is examining the key stages of program implementation at the local level, which include community mobilization, assessment and planning, implementation, and institutionalization and monitoring.

Other evaluation activities include building local evaluation capacity by conducting ongoing evaluation technical assistance and training activities to meet the individual evaluation needs of Title V subgrantees and developing the annual Title V Report to Congress.

This contract will be implemented by the current contractor, Caliber Associates. No additional applications will be solicited in FY 2001.

OJJDP Technical Assistance Support Contract—Juvenile Justice Resource Center

This contract has been competitively awarded since the mid-1980's when OJJDP identified the need for technical assistance support in carrying out its mission. FY 2001 is the third year of a 4-year project period. The Juvenile Justice Resource Center (JJRC) provides technical assistance and support to OJJDP, its grantees, and the Coordinating Council on Juvenile Justice and Delinquency Prevention in the areas of program development, evaluation, training, and research. With assistance from expert consultants, JJRC coordinates the peer review process for OJJDP grant applications and grantee reports, conducts research and prepares reports on current juvenile justice issues, plans meetings and conferences, and provides administrative support to various Federal councils and boards.

This contract will be implemented by the current contractor, Aspen Systems Corporation. No additional applications will be solicited in FY 2001.

Program of Research on the Causes and Correlates of Delinquency

Since 1986, this longitudinal study has addressed a variety of issues related to juvenile violence and delinquency and has produced a massive amount of information on the causes and correlates of delinquent behavior. Three project sites participate: Institute of Behavioral Science, University of Colorado at Boulder; Western Psychiatric Institute and Clinic, University of Pittsburgh; and Hindelang Criminal Justice Research Center, University at Albany, State University of New York. These projects are designed to improve the understanding of serious delinquency, violence, and drug use by examining how youth develop within the context of family, school, peers, and community. The three sites engage in both collaborative and site-specific research. The three research teams worked together to ensure that certain core measures were identical across the sites. This strengthens the findings from these projects by allowing for replications of findings in individual sites and enabling cross-site analyses.

Results from the study have been used extensively in the field of juvenile justice and contributed significantly to the development of OJJDP's Comprehensive Strategy for Serious, Violent, and Chronic Juvenile Offenders and other program initiatives. Over the years, findings from the Causes and Correlates research have been presented in a number of OJJDP Bulletins and Fact Sheets. In an effort to make these important findings increasingly accessible to the public, a Causes and Correlates of Delinquency subpage has been incorporated into the OJJDP Web site. The subpage (www.ojjdp.ncjrs.org/ccd/index.html) includes descriptions of the individual projects and a bibliography of all the publications resulting from these projects.

In the upcoming year—the second year in a 3-year project period, the Causes and Correlates projects will continue collaborative and site-specific analyses of the data. Topics for upcoming reports will include defining characteristics and predictors of very young offending, consequences of delinquency, and long term effects of juvenile justice system involvement. In addition, researchers at the three sites will continue efforts to provide researchers access to the Causes and Correlates data. Concerns about confidentiality prohibit the release of the data sets to the general public. However, OJJDP and the Causes and Correlates researchers have been exploring alternative methods of making the data more accessible to other researchers, the most promising being a remote access system. Plans for the upcoming year include developing and testing a remote access system at one of the sites.

This program will be implemented by the current grantees, the Regents of the University of Colorado, the University of Pittsburgh; and the Research Foundation of the State University of New York at Albany, SUNY. No additional applications will be solicited in FY 2001.

SafeFutures: Partnerships To Reduce Youth Violence and Delinquency

In FY 1995, OJJDP competitively selected six communities to implement the SafeFutures Program. SafeFutures seeks to prevent and control youth crime and victimization through the creation of a continuum of care in communities. This continuum enables communities to be responsive to the needs of youth at critical stages of their development by providing an appropriate range of prevention, intervention, treatment, and sanctions programs. The services provided through these programs include family strengthening; afterschool activities; mentoring; treatment alternatives for juvenile female offenders; mental health services; day treatment; graduated sanctions for serious, violent, and chronic juvenile offenders; and gang prevention, intervention, and suppression.

OJJDP will award fifth year funding to the Boston SafeFutures site in order to complete its 5-year project period, which began in FY 1995 through a competitive process. In FY 2001, Boston SafeFutures will continue to provide a set of services that builds on community strengths and existing services and fills in gaps within their existing continuum. Specific attention will also be given to improving the coordination and integration of services and program sustainability within Boston.

In addition, within the program developments and system changes that have occurred in the other five communities, there are promising activities, programs, and approaches that can serve as a model for other communities. In FY 2001, OJJDP will provide limited support through a competitive process among the SafeFutures grantees to assist the sites in sustaining these aspects of the programs. The Boston project will not be finished with the fifth year of the project at that time and thus would not be eligible for these funds.

A national evaluation is being conducted by the Urban Institute to determine the success of the initiative and track lessons learned at each of the six SafeFutures sites. OJJDP has also committed training and technical assistance resources to SafeFutures sites in FY 2001.

SafeFutures activities will be implemented by the current grantees. No additional applications will be solicited in FY 2001.

Technical Assistance for State Legislatures

Since FY 1995, OJJDP has awarded annual grants to the National Conference of State Legislatures (NCSL) to provide relevant, timely information on comprehensive approaches in juvenile justice to aid State legislators in improving State juvenile justice systems. Nearly every State has enacted, or is considering, statutory changes affecting the juvenile justice system. This project has helped policymakers understand the ramifications and nuances of juvenile justice reform.

The grant has improved capacity for the delivery of information services to State legislatures. The project also supports increased communication between State legislators and State and local leaders who influence decisionmaking regarding juvenile justice issues. In FY 2000, NCSL published and distributed the second edition of “Comprehensive Justice: A Legislator's Guide.” Designed as a folder containing a series of briefing papers, the guide focuses on systemic juvenile justice from a policy perspective and includes many examples of how State legislation has created or implemented components of comprehensive juvenile justice.

NCSL has also provided onsite technical assistance to many States developing or refining legislation. It has conducted annual invitational forums for select legislators involved in legislative activity that may warrant increased understanding on various juvenile justice issues. NCSL also maintains an informational clearinghouse on juvenile justice issues.

In FY 2001, NCSL would—

• Provide tailored, in-State assistance to four legislatures.

• Produce and distribute a 60-minute audiotape based on “Comprehensive Justice: A Legislator's Guide.”

• Prepare and distribute to legislators and staff two LegisBriefs (fact sheets) on key juvenile justice topics.

• Plan and convene a concurrent session at the NCSL 2001 annual convention.

• Continue research, analysis, and reporting on State juvenile justice enactments.

The project would be implemented by the current grantee, the National Conference of State Legislatures. No additional applications would be solicited in FY 2001.

Telecommunications Assistance

OJJDP uses information technology and distance training to facilitate access to information and training for juvenile justice professionals. This cost-effective medium enhances OJJDP's ability to share with the field salient elements of the most effective or promising approaches to various juvenile justice issues. In FY 1995, OJJDP awarded a competitive grant to Eastern Kentucky University (EKU) to produce live satellite teleconferences. In FY 2000, OJJDP continued the cooperative agreement with EKU to provide program support and technical assistance for a variety of information technologies and to explore linkages with key constituent groups to advance mutual information goals and objectives. This medium allows practitioners, policymakers, and researchers from across the country to keep abreast of developments in the field without having to travel. A typical videoconference will reach some 500 sites and approximately 15,000 persons at downlink sites and through personal computers.

During FY 2000, EKU produced five “live” satellite videoconferences and experimented with cybercasting “live” satellite videoconferences on the Internet. OJJDP has employed the use of Internet Streaming to simultaneously allow persons to observe and hear satellite videoconferences from desktop personal computers.

Currently, project staff are studying the feasibility of taking past satellite videoconference materials, video, printed hardcopy materials, and interviews with panelists and developing a Web-based tool or CD-ROM of the information to be used as a training or educational tool. EKU would continue to provide technical assistance to other organizations planning to conduct satellite videoconferences.

This project would be implemented by the current grantee, Eastern Kentucky University. No additional applications would be solicited in FY 2001.

Training and Technical Assistance Coordination for the SafeFutures Initiative

OJJDP proposes to continue funding for limited training and technical assistance to the SafeFutures Initiative in FY 2001. This coordination effort enhances local capacity for implementing and sustaining effective continuum-of-care and systems change approaches in the six SafeFutures sites. Project activities include assessment, identification, and coordination of the implementation of training and technical assistance needs at each of the sites. In FY 2001, this training and technical assistance would focus on sustaining the successes that the sites achieved during the previous years of the program.

This program would be implemented by the current grantee, Patricia Donahue. No additional applications would be solicited in FY 2001.

Public Safety and Law Enforcement

Evaluation of the Comprehensive Community-Wide Approach to Gang Prevention, Intervention, and Suppression Program

OJJDP will continue funding this evaluation in FY 2001. Under a competitive cooperative agreement awarded in FY 1995, the evaluation grantee assisted the five program sites (Bloomington, IL; Mesa, AZ; Riverside, CA; San Antonio, TX; and Tucson, AZ) in establishing realistic and measurable objectives, documenting program implementation, and measuring the impact of this comprehensive approach. It has also provided interim feedback to the program implementors and trained the local site interviewers. The grantee will continue to gather and analyze data required to evaluate the program, monitor and oversee the quality control of data, provide assistance for completion of interviews, and provide ongoing feedback to project sites. This project began in 1995 and will end in 2002.

This project will be implemented by the current grantee, the University of Chicago, School of Social Service Administration. No additional applications will be solicited in FY 2001.

Evaluation of the Partnerships To Reduce Juvenile Gun Violence Program

This project began with a competitive award in FY 1997 to document and evaluate the process of community mobilization, planning, and collaboration needed to develop a comprehensive, collaborative approach to reducing gun violence involving juveniles. The Partnerships To Reduce Juvenile Gun Violence Program is being implemented in three sites: Baton Rouge, LA; Oakland, CA; and Syracuse, NY. The grantee, COSMOS Corporation, would continue data collection and submit a interim report on the impact evaluation in the next year. In addition to working with the three Partnership sites, COSMOS Corporation completed work in FY 2000 on the OJJDP Bulletin Fighting Juvenile Gun Violence and has developed a training and technical assistance protocol based on its experience with the Partnership sites and the gun violence report. This training and technical assistance package will be offered to a limited number of communities that are focused on reducing gun violence through a collaborative planning process.

This project would be implemented by the current grantee, COSMOS Corporation. No additional applications would be solicited in FY 2001.

Evaluation of the Rural Gang Initiative

This initiative is a continuation of ongoing efforts to test OJJDP's Comprehensive Gang Model. In FY 1999, four competitively selected rural sites conducted comprehensive assessments of their local gang problem and developed program designs to implement the Comprehensive Gang Model. These sites were Elk City, OK; Glenn County, CA; Mt. Vernon, IL; and Longview, WA. The evaluation grantee, the National Council on Crime and Delinquency (NCCD), has conducted case studies to document and analyze the 1-year community assessment and program planning efforts in the four sites. These case studies will contribute to the development of a model approach to assessment of community gang problems in rural areas. NCCD has also developed an outcome evaluation design for sites that are being funded to implement the model in subsequent years. FY 2000 was the first year of funding for the outcome evaluation, and FY 2001 funding would continue to support data collection for this evaluation.

This program would be implemented by the current grantee, the National Council on Crime and Delinquency. No additional applications would be solicited in FY 2001.

Evaluation of the Transfer of Responsibility for Child Protective Investigations to Law Enforcement Agencies

In response to concerns about the increasing demands on public child welfare agencies, the safety of children, and the effectiveness of law enforcement and social service agencies to deliver critical services, the State of Florida passed legislation in 1998 that allows for the transfer of the entire responsibility for child protective investigations to a law enforcement agency. Currently, three counties in Florida are in various stages of implementing this transfer of responsibility. This project is comparing the outcomes in the three counties where responsibility is being transferred to the sheriff's office with three comparison counties in the State of Florida. The project is concerned primarily with whether children are safer, whether perpetrators of severe child abuse are more likely to face criminal sanctions, and whether there are impacts on other parts of the child welfare system. Also, a thorough process evaluation will be conducted to describe and compare the implementation process across the three counties. This project is in the final year of a 3-year period.

This evaluation is being funded under an interagency agreement with the National Institute of Justice. The grantee is the School of Social Work, University of Pennsylvania. No additional applications will be solicited in FY 2001.

Gang Prevention Through Targeted Outreach (Boys & Girls Clubs)

The purpose of this program is to enable local Boys & Girls Clubs to prevent youth from entering gangs, intervene with gang members in the early stages of gang involvement, and divert youth from gang activities into more constructive programs. This program reflects the ongoing collaboration between OJJDP and the Boys & Girls Clubs to reduce problems of juvenile delinquency and violence. The Boys & Girls Clubs of America provides training and technical assistance to local gang prevention and intervention sites, including some at OJJDP Comprehensive Gang sites, and to other clubs and organizations through regional trainings and national conferences. In FY 2000, the Boys & Girls Clubs added new gang prevention sites, gang intervention sites, and “Targeted Reintegration” sites where clubs work to provide services to youth returning to the community from juvenile correctional facilities to prevent them from returning to gangs and violence. In FY 2001, the Boys & Girls Clubs of America would identify and support up to 30 new gang prevention sites through targeted outreach and would also hold a Delinquency and Gang Prevention Symposium in the spring. A national evaluation of this program is being implemented by Public/Private Ventures.

This program would be implemented by the current grantee, the Boys & Girls Clubs of America. No additional applications would be solicited in FY 2001.

Juvenile Justice Law Enforcement Training and Technical Assistance Program

The Juvenile Justice Law Enforcement Training and Technical Assistance Program explores adolescent violence in the United States as a social phenomenon and a policy issue. The program covers a range of youth violence issues including the examination of crime statistics and emerging legislation. The program also conducts analysis of key areas of youth violence policy and practice: youth firearm possession and use; school violence and safety; youth-oriented community policing; gang and drug involvement; serious, violent, and habitual juvenile offenders; multidisciplinary youth violence strategies; police management of youth programs; tribal juvenile crime; and Chief Executive Officer responses to delinquency and violence.

The program examines the core issues of youth violence using methods that are consistent with effective police practices and that promote a more positive future for America's youth. Similarly, leaders in the areas of law enforcement, prosecution, the courts, corrections, probation, and other juvenile justice agencies receive information, materials training and technical assistance designed to solve managerial issues that hinder the implementation of effective youth crime prevention strategies.

Since FY 1999, Federal funds have supported the provision of training sessions and technical assistance to State and local law enforcement jurisdictions. In FY 2000, the following workshops were conducted: (1) School Administrators For Effective Police Operations Leading to Improved Children and Youth Services and (2) Serious Habitual Offender Comprehensive Action Program (SHOCAP). Based on practitioner feedback and needs assessment data, the grantee completed revisions to the Chief Executive Officer Youth Violence Forum. Additionally, an instructional design committee has been formed to revise and update the following: Youth, Gang, Gun and Drug Policy; Youth Oriented Community Policing, and the Youth Violence Reduction Comprehensive Action Program. A new workshop, Tribal Law Enforcement Training and Technical Assistance, is also under development. The grantee will continue to provide training and technical assistance through the workshops series described above.

This program will be implemented by the current grantee, the International Association of Chiefs of Police. No additional applications will be solicited in FY 2001.

Mesa Gang Intervention Project (MGIP)

In FY 1995, OJJDP competitively selected the City of Mesa to be one of five communities to implement and test the OJJDP Comprehensive Gang Model. Since that time, the Mesa Gang Intervention Project (MGIP) has become an exciting and promising gang intervention program. The program targets youth in Mesa who are gang involved and youth who are at high-risk for gang involvement. The program provides a cadre of services including job skill development, counseling, drug and alcohol treatment and prevention, tattoo removal services, and outreach. The program monitors gang-involved youth, holding them accountable for negative behaviors. The program has developed into a partnership with many agencies in Mesa, including police, adult and juvenile probation, United Way, local Boys & Girls Clubs, other youth-serving agencies, private businesses/corporations, and others. Preliminary evaluation information from MGIP looks very promising in reducing youth gang crime among targeted youth. Additionally, the program has been well received locally and most program components and staff have been sustained with local funds.

In FY 2001, OJJDP would provide limited additional support to MGIP to continue the local evaluation and assessment activities and allow MGIP to function as a “host” site for future OJJDP training on the Comprehensive Gang Model.

This project would be implemented by the current grantee, the City of Mesa, AZ. No additional applications would be solicited in FY 2001.

National Youth Gang Center

The proliferation of gang problems over the past two decades led OJJDP to develop a comprehensive, coordinated response to America's gang problem. This response involved five program components, one of which was implementation and operation of the National Youth Gang Center (NYGC). Competitively funded in 1994 to expand and maintain the body of critical knowledge about youth gangs and effective responses to them, NYGC provides support services to the National Youth Gang Consortium, composed of Federal agencies with responsibilities in this area. NYGC is also providing technical assistance for OJJDP's Rural Gang Initiative. In FY 2000, NYGC (1) conducted indepth analyses of the National Youth Gang Survey results that track changes in gang membership and activity, (2) produced timely information on the nature and scope of the youth gang problem, (3) continued tracking gang-related legislation at both the State and Federal level, and (4) continued providing training and technical assistance to the Rural Gang Initiative program sites.

With FY 2001 funds, the Center would continue to collect, analyze, and disseminate current, comprehensive, and accurate national-level gang-related information. It would continue to assist State and local jurisdictions in the collection, analysis, and exchange of information on gang-related demographics, legislation, literature, research, and promising program strategies. The Center would also continue to provide indepth technical assistance to rural gang initiative grantees and to grantees of other OJJDP gang programs.

This program would be implemented by the current grantee, the Institute for Intergovernmental Research. No additional applications would be solicited in FY 2001.

Rural Gang Initiative Demonstration Sites

During FY 2000, OJJDP competitively funded four rural communities (Elk City, OK; Glenn County, CA; Longview, WA; and Mount Vernon, IL) to conduct a comprehensive assessment of the local youth gang problem. Each site has collected relevant data from multiple sources, including police, schools, courts, and community residents. They have gathered various types of data, including data on gang crime, the presence of risk factors for gang membership, and community demographics, and data from community surveys and focus groups. This information was used in each site to determine the nature and scope of the existing youth gang problems. A steering committee made up of community representatives in each site used the final assessment findings to develop a response to the problems identified. In two of the four sites, it was determined and agreed locally that an intensive gang intervention effort was not necessary. Instead, these two communities will use the data to develop gang prevention services and intervene with delinquent and gang-involved youth through a less intensive effort. The remaining two sites have determined that a more intensive gang intervention effort is required and would implement the OJJDP Comprehensive Gang Model in FY 2001.

In FY 2001, OJJDP would support the two communities implementing the OJJDP Comprehensive Gang Model. An independent evaluation of these two sites would also be conducted and technical assistance would be provided through the National Youth Gang Center.

This initiative would be implemented by two of the four current grantees, Glenn County, CA and Mount Vernon, IL. No additional applications would be solicited for this initiative in FY 2001.

Technical Assistance to the Gang-Free Schools and Communities Initiatives

In FY 2000, OJJDP launched a multisite replication of the OJJDP Comprehensive Gang Model and a four-site demonstration program to implement the Model and further enhance the Model's school component. In FY 2001, OJJDP proposes to fund the National Youth Gang Center to provide training and technical assistance during the implementation stages of this initiative in selected communities across the country. The National Youth Gang Center is currently providing technical assistance on OJJDP's Model to communities involved in OJJDP's Rural Gang Initiative and to other OJJDP grantees.

OJJDP would provide a supplemental award to the National Youth Gang Center to provide the technical assistance. No additional applications would be solicited in FY 2001.

Delinquency Prevention and Intervention

Assessing Alcohol, Drug, and Mental (ADM) Disorders Among Juvenile Detainees

This project is a major longitudinal study assessing alcohol, drug, and mental disorders among juveniles in the Cook County Detention Center in Chicago, IL. The project has three primary goals: (1) to determine how alcohol, drug, and mental disorders develop over time among juvenile detainees, (2) to investigate whether juvenile detainees receive needed psychiatric services after their cases reach disposition (whether they return to the community or are incarcerated), and (3) to study the development and interrelationship of dangerous and risky behaviors related to violence, substance use, and HIV/AIDS. This project is unique because the sample is so large: it includes 1,833 youth from Chicago who were arrested and interviewed between 1995 and 1998. The sample is stratified by gender, race (African American, Hispanic, non-Hispanic white), and age. Initial interviews have been completed, and extensive archival data (arrest and incarceration history, health and mental health treatment, etc.) collected on each subject. The investigators have been tracking the subjects and are now conducting the first set of followup interviews. A significant number of deaths, virtually all of them linked to violence (e.g. gunshot wounds), have already occurred. Because of their extensive and thorough tracking procedures, the investigators will be able to reinterview subjects regardless of whether they are back in the community, incarcerated, or have left the immediate area. The large sample size will provide sufficient statistical power to study rarer disorders (including co-occurring disorders), patterns of drug use, and risky, life-threatening behaviors.

This project would be implemented by the current grantee, Northwestern University. No additional applications would be solicited in FY 2001.

The Chicago Project for Violence Prevention

The Chicago Project for Violence Prevention is a citywide, long-term effort to reduce violence. Objectives include reductions in homicide, physical injury, disability and emotional harm from assault, domestic abuse, sexual abuse and rape, and child abuse and neglect. A partnership among the Chicago Department of Public Health, the Illinois Council for the Prevention of Violence, the University of Illinois, and Chicago communities, the project began in 1995 with joint funding from OJJDP and the Centers for Disease Control and Prevention, the National Center for Injury Prevention and Control, the Bureau of Justice Assistance, and the U.S. Department of Housing and Urban Development. The Project now provides technical assistance to seven Chicago communities and citywide organizations involved in violence prevention planning. In FY 2001, the Chicago Project would complete evaluation reports on the first three communities involved in the project.

This project would be implemented by the current grantee, the University of Illinois, School of Public Health. No additional applications would be solicited in FY 2001.

Communities In Schools, Inc.

The purpose of Communities In Schools (CIS) is to provide training and technical assistance to the CIS Network that will result in increased ability to build economic opportunity for CIS students and families, to build healthy families and communities, and to build healthy public-private partnerships throughout the CIS Network. A special focus is placed on strengthening the families of CIS youth. In FY 2000, CIS has exceeded anticipated outcomes and demonstrated that grant resources have leveraged additional activity for family strengthening activities in the CIS Network. Working with the Families and Schools Together (FAST) National Training and Evaluation Center, CIS is creating a network of expert trainers to disseminate proven family strengthening initiatives. To that end, the focus has been on “seeding” the CIS Network with the Families and Schools Together (FAST) research-based approach to family strengthening. The implementation of the FAST program is taking place through statewide initiatives in Missouri, North Carolina, and South Carolina, and interest in statewide replication has been identified in Georgia, Kentucky, and Texas. In FY 2001, Communities In Schools would expand the number of sites in the CIS Network implementing the FAST program.

The program would be implemented by the current grantee, Communities In Schools, Inc. No additional applications would be solicited in FY 2001.

Diffusion of State Risk- and Protective-Factor-Focused Prevention

Since FY 1997, OJJDP has provided funds to the National Institute on Drug Abuse, through an interagency agreement, to support this 5-year study of the public health approach to prevention, focusing on risk and protective factors for substance abuse at the State and community levels. The study is identifying factors that influence the adoption of the public health approach and assessing the association between this approach and the levels of risk and protective factors and substance abuse among adolescents. The study will also examine State substance abuse data gathered from 1988 through 2001 and use interviews to describe the process of implementing the epidemiological risk- and protective-factor approach in Colorado, Illinois, Kansas, Maine, Oregon, Utah, and Washington.

This project will be implemented under an interagency agreement with the National Institute on Drug Abuse by the current grantee, the Social Development Research Group at the University of Washington School of Social Work. No additional applications will be solicited in FY 2001.

Do the Write Thing Challenge Program

This program provides youth at risk of delinquency, crime, and victimization with an opportunity to use the written word to express their ideas on how best to address these problems in their communities. The program uses teachers and volunteers from law enforcement, the juvenile justice system, the medical community, and youth-serving organizations to work with the youth to develop their ideas and put them on paper in narrative or poetic form. Program participants learn to respect others' ideas and to understand the value and power of words. Students are asked to accept the challenge and pledge to avoid violence in their own lives and help prevent and reduce it in the lives of others.

With OJJDP funding, which began in FY 1997, the program has expanded to 18 cities with more than 450 schools and youth-serving organizations participating. This past school year, more than 50,000 students participated in the program's classroom discussions about youth violence and possible solutions. In FY 2001, the program would prepare a comprehensive analysis of at least 5,000 student submissions, publish a summary and develop a computer presentation of that analysis, and provide training and technical assistance to help the local Do the Write Thing committees establish a new initiative, Community Peace Partnerships, to unite local groups working to prevent and reduce youth violence and victimization.

This program would be implemented by the current grantee, the National Campaign to Stop Violence. No additional applications would be solicited in FY 2001.

Evaluation of the Truancy Reduction Demonstration Program

In FY 1999, OJJDP began funding seven sites around the country to implement truancy reduction programs. Grantees, representing a diversity of models and geographic locations, include Contra Costa, CA; Honolulu, HI; Houston, TX; Jacksonville, FL; King County, WA; Suffolk County, NY; and Tacoma, WA. Also in 1998, OJJDP funded the Colorado Foundation for Families and Children (CFFC) to conduct a national evaluation of the Truancy Reduction Demonstration Program. As part of the evaluation, CFFC is working with the sites to (1) determine how community collaboration can impact truancy reduction and lead to systemic reform; and (2) assist OJJDP in the development of a community collaborative truancy reduction program model and identify the essential elements of that model. To that end, CFFC will continue to assist project sites during this second year to identify and document the nature of the truancy problem in their communities, enhance the process of effective truancy reduction planning and collaboration, and incorporate that process into the implementation of the Truancy Reduction Demonstration Program at each site. In addition, CFFC is assisting sites in collecting information on truant youth and documenting services. The project is scheduled to last 3½ years.

This project will be implemented by the current grantee, the Colorado Foundation for Families and Children. No additional applications will be solicited in FY 2001.

Intergenerational Transmission of Antisocial Behavior

The purpose of this study, started in FY 1998, is to examine the development of childhood antisocial behavior in a three-generation prospective panel study, by making the children of the current participants in the OJJDP-sponsored Rochester Youth Development Study the focal subjects of a new long-term study. By the age of 21, 40 percent of the original Rochester participants were parents. The study will combine data obtained from the original study on the participants and their parents, with data from this new project collected on the children of the original participants. This provides the unique opportunity to examine and track the development of delinquent behavior across three generations in a particularly high-risk sample. Such a cohort is rare in social science research. The results of the study should provide very useful findings that should have policy implications for prevention programs. In the second year of this 5-year commitment, the program will continue data collection.

The project will be implemented under an interagency agreement with the National Institute of Mental Health by the current grantee, the University at Albany, State University of New York. No additional applications will be solicited in FY 2001.

Investing in Youth for a Safer Future—A Public Education Campaign

OJJDP is proposing to continue its support of the National Crime Prevention Council's (NCPC's) “Invest in Youth for a Safer Future” advertising campaign through the transfer of funds to the Bureau of Justice Assistance (BJA). OJJDP and BJA are working with NCPC to produce, disseminate, and support effective public service advertising and related media to inform the public of effective solutions to juvenile crime and to motivate young people and adults to get involved and support these solutions. The featured solutions include effective prevention programs and intervention strategies.

The program would be implemented under an interagency agreement with the Bureau of Justice Assistance by the current grantee, the National Crime Prevention Council. No additional applications would be solicited in FY 2001.

Multisite, Multimodal Treatment Study of Children With Attention Deficit/Hyperactivity Disorder

OJJDP will transfer funds under a 5-year interagency agreement with the National Institute of Mental Health (NIMH) to support this research, funded principally by NIMH. In 1992, NIMH began a study of the long-term efficacy of stimulant medication and intensive behavioral and educational treatment for children with attention deficit/hyperactivity disorder (ADHD). Although ADHD is classified as a childhood disorder, up to 70 percent of afflicted children continue to experience symptoms in adolescence and adulthood. The study will continue through 2001 and will follow the original families and a comparison group. OJJDP's participation, which began in FY 1998, supports continued investigations into the subjects' delinquent behavior and contact with the legal system, including arrests and court referrals.

This program will be implemented through an interagency agreement with the National Institute of Mental Health. No additional applications will be solicited in FY 2001.

Risk Reduction Via Promotion of Youth Development

Also known as Early Alliance, this program, begun in FY 1997, is a large-scale prevention study involving hundreds of children in several elementary schools in lower socioeconomic neighborhoods of Columbia, SC. This project is designed to promote coping competence and reduce risk for conduct problems, aggression, substance use, delinquency and violence, and school failure beginning in early elementary school. The interventions begin in the first grade, and children are followed longitudinally throughout the 5 years of the project. A major goal of the project is to reduce the development of conduct problems, aggression, and subsequent delinquency and violence. The project also seeks to alter home and school climates in order to reduce risk for adverse outcomes and to promote positive youth development. This project is in the final year of a 5-year project period.

This project will be implemented under an interagency agreement with the National Institute of Mental Health by the current grantee, the University of South Carolina. No additional applications will be solicited in FY 2001.

Strengthening Services for Chemically Involved Children, Youth, and Families

The U.S. Departments of Justice and Health and Human Services (HHS) provide services to children affected by parental substance use or abuse. OJJDP administers this training and technical assistance program, which began in FY 1998. HHS's Substance Abuse and Mental Health Services Administration has partnered with OJJDP to fund a cooperative agreement with the Child Welfare League of America (CWLA), a nonprofit organization. CWLA is assisting child welfare personnel to provide appropriate intervention services for children impacted by the abuse of alcohol and other drugs (AOD) and for their caregivers. CWLA is producing a comprehensive assessment tool and decisionmaking guidelines for child welfare workers and supervisors. CWLA training and technical assistance will help to develop innovative and effective approaches to meeting the needs of children in the child welfare system whose parents are AOD abusers.

Previously, the grantee developed a curriculum based on the Substance Affected Families Environmental and Strengths Assessment, drafted a training outline, edited design materials, and provided ongoing support to CWLA national training staff. In FY 2001, CWLA would continue the development and online dissemination of resource materials, training, and technical assistance to improve the ability of child welfare and juvenile justice direct service professionals to prepare youth in out-of-home care for adulthood, promote their positive development, and support them in avoiding high-risk behaviors.

This project would be implemented by the current grantee, the Child Welfare League of America. No additional applications would be solicited in FY 2001.

Study of the Marketing of Age-Restricted Violent Entertainment to Children

This study, announced on June 1, 1999, is being conducted by the Federal Trade Commission (FTC), with financial support from OJJDP. The study will report on whether, and to what extent, movies, video and computer games, and music recordings that are age-restricted because of their violent content are marketed or are available to children. The FTC has completed the four major tasks of this program: developed basic background information on the three industries and developed the study plan and procedures, surveyed industries to determine age groups being targeted in industry promotions, surveyed juveniles and parents to determine attitudes toward ratings, and conducted a survey to determine the degree of compliance with existing industry ratings. Data are now being analyzed and the final report being written. Additional funding in FY 2001 would be used to disseminate study results to parents, children, and other OJJDP constituent groups.

This project would be implemented by the Federal Trade Commission under an extension to an interagency fund transfer agreement. No additional applications would be solicited in FY 2001.

Technical Assistance for Community Prevention Programs—Title V

The purpose of this FY 2000 contract is to provide OJJDP with the capacity to provide communities with training and technical assistance support for implementation of the Title V—Community Prevention Grants program. The contractor will continue to provide nationwide training and technical assistance for State and local jurisdictions on developing and implementing comprehensive communitywide, data-based delinquency prevention strategies. Through training and technical assistance, community representatives develop the knowledge and skills necessary to assess risk and protective factors for delinquency prevention. Community leaders will be trained to identify and direct community resources to address identified risk factors.

This project will be implemented by the current contractor, Development Services Group. No additional applications will be solicited in FY 2001.

Truancy Reduction Demonstration Program

In FY 1998, OJJDP, the Office of Justice Programs' Executive Office of Weed and Seed, and the U.S. Department of Education jointly engaged in a grant program to address truancy. This program specifically outlines four major comprehensive components: (1) system reform and accountability, (2) a service continuum to address the needs of children and adolescents who are truant, (3) data collection and evaluation, and (4) a community education and awareness program from kindergarten through grade 12 that addresses the need to prevent truancy and to intervene with youth who are truant. The goals of this program are to develop and implement or expand and strengthen comprehensive truancy programs that pool education, justice system, law enforcement, social services, and community resources to (1) identify truant youth; (2) cooperatively design and implement comprehensive, systemwide programs to meet the needs of truants; and (3) design and maintain systems for tracking truant youth. OJJDP has awarded funds for this program to seven sites: three non-Weed-and-Seed sites (Honolulu, HI; Jacksonville, FL; and King County, WA) and four Weed and Seed sites (Houston, TX; Martinez, CA; Tacoma, WA; and Yaphank, NY). All sites are currently involved in program development and implementation of plans that link youth and adolescents who are truant with community-based services and programs. They are also involved in full implementation of the community's comprehensive systemwide plan to prevent and intervene with the problem of truancy. This program is currently being evaluated by the Colorado Foundation for Families and Children (CFFC), which is conducting a process evaluation that will help to identify key elements of an effective truancy program.

This program will be implemented by the current grantees, Honolulu, HI; Houston, TX; Jacksonville, FL; King County, WA; Martinez, CA; Tacoma, WA; and Yaphank, NY. No additional applications will be solicited in FY 2001.

Strengthening the Juvenile Justice System

Balanced and Restorative Justice (BARJ) Training Project

The goal of the BARJ project is to help control juvenile delinquency through increased use of restitution, community service, and other innovative programs as part of a jurisdictionwide juvenile justice change from traditional retributive or rehabilitative system models to balanced and restorative justice orientation and procedures. The specific steps for achieving this goal involve preparing materials, training personnel interested in BARJ, and providing onsite technical assistance to selected State and local jurisdictions committed to implementing BARJ. Materials development in FY 2001, year 3 of a 3-year project period, will include documents on restorative justice programs, practices, and policy directions. The materials will be useful for training juvenile justice system practitioners and managers on the BARJ model and for providing onsite technical assistance. The training and technical assistance will be delivered at regional and national roundtables, juvenile justice conferences, and specialized workshops. “Training of trainers” programs will also be offered. There will be some concentration of BARJ technical assistance at the State level and on advancing judges' and prosecutors' leadership in the area of restorative justice. Further, there will be an effort to involve corporations and foundations in BARJ implementation and initial exploration of introducing BARJ in higher education.

Over recent years, the BARJ Project has reached justice system managers and practitioners in every State, and there is now some restorative justice activity going on in every State. The project has developed both basic and advanced BARJ training curriculums (in cooperation with the National Institute of Corrections); BARJ resource documents, such as an implementation guide, and a soon-to-be-published restorative justice inventory. In addition, numerous articles in professional periodicals have been published by project staff and consultants.

During the past 12 months, BARJ staff and consultants presented more than 25 key training and technical assistance events. Notable among these were a number of roundtables for judges, Native American juvenile justice administrators, and (regionally) representatives of States interested in implementing BARJ. The roundtables typically draw from 30 to 40 local juvenile justice leaders. BARJ staff also held Forums on Changing Roles for Juvenile Probation, Prosecutor Involvement in Restorative Justice, and Strength-Based Rehabilitation and Competency Development. Further, intensive training and onsite technical assistance were provided to nine “special emphasis States.” In addition, BARJ staff and consultants delivered two “train the trainer” courses and a Basic BARJ Principles course (in cooperation with the Juvenile Accountability Incentive Block Grants program and with the National Institute of Corrections). Since 1998, the project has organized or made presentations at more than 100 events. Over 10,000 juvenile justice and related practitioners have participated in these events. Seven BARJ publications are currently in various stages of production.

This project will be implemented by the current grantee, Florida Atlantic University. No additional applications will be solicited in FY 2001.

Blueprints for Violence Prevention: Training and Technical Assistance

In FY 1998, OJJDP funded a cooperative agreement with the Center for the Study and Prevention of Violence (CSPV) at the University of Colorado. Under this agreement, CSPV provides intensive training and technical assistance to community organizations and units of local government to replicate 10 “Blueprint” model programs. These are programs that CSPV identified as meeting a rigorous scientific standard of proven program effectiveness and replicability for reducing adolescent violence, crime, and substance abuse. CSPV will help communities determine the feasibility of program development and also monitor and assist in the replication of these Blueprint programs for a period of 2 years.

The model programs being replicated under this award include Multisystemic Therapy (MST), Promoting Alternative Thinking Strategies (PATHS), Nurse Home Visitation, Multidimensional Treatment Foster Care (MTFC), Quantum Opportunities Program, Bullying Prevention Program, Functional Family Therapy (FFT), and the Big Brothers/Big Sister (BBBS) Mentoring Program.

To date, 40 sites are participating in the program. Overall, 594 individuals have been trained, for a total of 158 days of training.

CSPV has completed process evaluation visits with all 40 sites. A total of 3,078 individuals have been served through the Blueprints initiative. MST and BBBS clients have completed their first year of implementation. Total clients served to date include the following: Bullying Prevention (2,303), PATHS (581), FFT (30), MTFC (7), MST (119); and BBBS (38). In FY 2001, the final year of a 2-year project period, the grantee will continue to provide overall guidance to the program and monitor the integrity of each implementation. CSPV will also conduct process evaluation site visits, provide phone consultation, and provide training and technical assistance.

This project will be implemented by the current grantee, the Regents of the University of Colorado. No additional applications will be solicited in FY 2001.

Building Blocks for Youth

The goals of this initiative are to protect minority youth in the justice system and promote rational and effective juvenile justice policies. These goals are accomplished by the following components: (1) conducting research on issues such as the impact on minority youth of new State laws and the implications of privatization of juvenile facilities by profit-making corporations; (2) undertaking an analysis of decisionmaking in the justice system and development of model decisionmaking criteria that reduce or eliminate disproportionate impact of the system on minority youth; (3) building a constituency for change at the national, State, and local levels; and (4) developing communication strategies for dissemination of information. A fifth component, direct advocacy for minority youth, is funded by sources other than OJJDP. Funding by OJJDP began in FY 1998.

The grantee, Youth Law Center (YLC), has undertaken a number of tasks to move this initiative forward. The grantee is preparing a comprehensive report on the disparate impact on minority youth by the justice system at critical decision points. YLC is also supporting a wide range of national and local advocacy organizations to work for needed juvenile justice reforms. The grantee continues to build a constituency for change at the national, State, and local levels with this effort being informed by development of communications strategies based upon the results of a series of national focus groups that survey public opinion and perceptions of juvenile crime. YLC has released two publications, The Color of Justice and And Justice for Some, which drew attention and raised the interest levels of various public officials and special interest groups. Several new publications are under development in FY 2001.

This project would be implemented by the current grantee, Youth Law Center. No additional applications would be solicited in FY 2001.

Census of Juveniles in Residential Placement

The Census of Juveniles in Residential Placement (CJRP) collects individual-level data on all juveniles in residential placement on a specific reference day (the fourth Wednesday in October). The data elements collected include age, sex, race, placing agency, legal status, and most serious offense. Because this project is a census, it allows for State-level reporting of juveniles in residential placement or custody. The census is mailed to all facilities that can and do hold juvenile offenders. Facility personnel report on all offenders under 21 residing in their facilities on the specific reference day. The facilities also provide some basic information on any other persons who do not fit these criteria. The CJRP was first conducted in October 1997 and then again in October 1999. Data from the 1997 CJRP are available on the Internet in tabular form at OJJDP's Web site (www.ojjdp.ncjrs.org). Data from the 1999 CJRP will be available for public use by December 2000. The CJRP would be conducted a third time in October 2001, with data available by December 2002.

This program would be continued through the extension of an interagency agreement with the Bureau of the Census. No additional applications would be solicited in FY 2001.

Center for Students With Disabilities in the Juvenile Justice System

During FY 1999, OJJDP undertook a joint initiative with the Office of Special Education and Rehabilitative Services, U.S. Department of Education, to establish a Center for Students with Disabilities in the Juvenile Justice System. It is expected that this project will have a significant impact on the improvement of juvenile justice system services for students with disabilities. Improvements in the areas of prevention, educational services, and reintegration based on a combination of research, training, and technical assistance will lead to improved results for children and youth with disabilities. The Center for Students with Disabilities in the Juvenile Justice System will provide guidance and assistance to States, schools, justice programs, families, and communities to design, implement, and evaluate comprehensive educational programs, based on research-validated practices, for students with disabilities in the juvenile justice system.

This program will be implemented under an existing 5-year interagency agreement with the U.S. Department of Education by the current grantee, the University of Maryland. No additional applications will be solicited in FY 2001.

Comprehensive Children and Families Mental Health Training and Technical Assistance

OJJDP, under a 3-year interagency agreement, transferred funds to the Center for Mental Health Services (CMHS) in FY 1999 and FY 2000 to supplement a contract for training and technical assistance to the CMHS-funded Comprehensive Mental Health sites. The grantee has established the training and technical assistance center in Washington, DC, and has hired staff with juvenile justice and mental health experience to coordinate training and technical assistance to the 42 funded sites. This training and technical assistance is designed to enhance the involvement of the juvenile justice system in the systems of care being developed in each of the CMHS-funded sites. The juvenile justice coordinator has been working with program sites requesting assistance in engaging their juvenile justice systems through onsite and telephone technical assistance. The coordinator has also established linkages with key juvenile justice associations, such as the National Council of Juvenile and Family Court Judges, to foster their involvement. Additionally, the coordinator is developing a resource guide for the sites. Funds will be transferred to CMHS in FY 2001 for the final year of the 3-year interagency agreement.

This initiative will be implemented through an interagency agreement with the Center for Mental Health Services. No additional applications will be solicited in FY 2001.

Connecticut/Cook County (IL) Girls Collaborative

A national collaboration between the State of Connecticut and Cook County, IL, has been forged around the needs of court-involved girls. The primary goal of this collaboration is the creation of a replicable model of systems change for court-involved girls, including girls who are pregnant and/or young mothers. Since this project began in FY 1997, the sites have shared lessons learned and have taken action to improve services to court-involved girls. Specific accomplishments include conducting comprehensive studies of the Connecticut female juvenile offender population, convening a statewide “Gender Responsiveness” conference, providing training to juvenile justice staff on gender responsiveness, and developing a case management system for girls and a risk and needs assessment instrument. The project has begun to implement a pilot program and test gender-specific services.

OJJDP would support this national collaboration in FY 2001 in order to continue to develop innovative responses to the female offender population and girls at-risk of entering the juvenile justice system.

The program would be implemented by the current grantees, Cook County Board of Commissioners and Connecticut Judicial Branch. No additional applications would be solicited in FY 2001.

Development of the Comprehensive Strategy for Serious, Violent, and Chronic Juvenile Offenders

This continuation grant would enable OJJDP to provide communities with training and technical assistance support for development of strategic plans and implementation of those plans that are based on the research foundation of the Comprehensive Strategy for Serious, Violent, and Chronic Juvenile Offenders. The grantees would continue to provide training and technical assistance for State and local jurisdictions on developing and implementing comprehensive strategic plans that are designed to reduce juvenile delinquency. Through training and technical assistance, communities would develop the knowledge and skills necessary to assess risk and protective factors, develop and implement research-based programs and prevention and graduated sanctions services, and more effectively address juvenile crime in their communities.

This project would be implemented by the current grantees, Developmental Research and Programs, Inc. and the National Council on Crime and Delinquency. No additional applications would be solicited in FY 2001.

Evaluation of the Department of Labor's Education and Training for Youthful Offenders Initiative

This evaluation, initially funded in FY 1999, has documented the activities undertaken by two States awarded grants under the U.S. Department of Labor's (DOL's) Education and Training for Youthful Offenders Initiative. Each DOL grantee will provide comprehensive school-to-work education and training within a juvenile correctional facility and followup and job placement services as youth return to the community. It is intended that the comprehensive services developed under these grants will serve as models for other juvenile correctional facilities across the country.

The OJJDP-sponsored evaluation of these projects is being conducted in two phases. During Phase I, a process evaluation is under way at each site to document the extent to which educational, job training, and aftercare services were enhanced with DOL funding. Also, the feasibility of conducting an impact evaluation at each site is being determined during Phase I. Phase II will entail conducting an impact evaluation at one or both sites. For those sites where a rigorous impact evaluation can be conducted, the effects of the program on job-related skills, employment, earnings, academic performance, and recidivism will be measured. The FY 2001 funds would be used to support the impact evaluation, if a feasible research design is accepted by OJJDP and the DOL.

This project would be implemented by the current grantee, the National Council on Crime and Delinquency. No additional applications would be solicited in FY 2001.

Evaluation of the Performance-Based Standards Project

To enhance the impact of the Performance-Based Standards (PBS) Project, OJJDP has entered into an interagency agreement with the U.S. Department of Commerce to support a formative evaluation of the project. This evaluation, which is being conducted by the National Academy for Public Administration (NAPA), provides continuous, objective assessments of the projects implementation nationally and within the participating sites. Currently, the Performance-Based Standards Project has 59 participating facilities and agencies. The evaluation, which has been ongoing since 1998, provides continuous feedback to the project team at the Council of Juvenile Corrections Administrators (CJCA) and Abt Associates. In the initial phases of the project, the NAPA evaluation team conducted surveys of the participating sites to learn about the facilities' perceptions of the project. This survey led directly to the PBS project setting up a sophisticated monitoring system that will more closely track the sites' development and implementation of their facility improvement plans. The monitoring system will assist project staff in determining what technical assistance the facilities require and at what points. The surveys also indicated a need for ongoing technical assistance in the sites because of staff turnover and job changes. In the coming year, the evaluation would continue the formative evaluation of PBS as more demonstration facilities are brought into the process. The evaluation would also focus on issues of privacy and would conduct site visits to gain objective views of the progress of PBS at the facility level.

This program would be funded in FY 2001 under an interagency agreement with the Department of Commerce and implemented by the current grantee, the National Academy for Public Administration. No additional applications would be solicited in FY 2001.

Evaluation of SafeFutures

A national evaluation competitively awarded with FY 1995 funds is being conducted by the Urban Institute to determine the success of the SafeFutures initiative in creating a comprehensive continuum of care for youth in six participating sites (Boston, MA; Contra Costa County and Imperial County, CA; Fort Belknap, MT; Seattle, WA; and St. Louis, Missouri). The evaluation addresses the program implementation process and measures performance outcomes and lessons learned about the challenges and accomplishments across the six sites. A cross-site report will document the process of program implementation and community outcomes for use by other funding agencies or communities that want to develop and implement a comprehensive community-based strategy to address serious, violent, and chronic delinquency. FY 2001 is the final year of the 6-year project period.

The evaluation will be implemented by the current grantee, the Urban Institute. No additional applications will be solicited in FY 2001.

Juvenile Defender Training, Technical Assistance, and Resource Center

The Juvenile Defender Training, Technical Assistance, and Resource Center (Juvenile Defender Center), now in its second year of funding under a 5-year project period grant, was competitively awarded to the American Bar Association (ABA) in FY 1999. The Juvenile Defender Center fills a major gap in resources and support for juvenile defenders in the United States by providing training and technical assistance services. Nationally focused training and technical assistance for juvenile defenders did not exist before OJJDP funded the original Due Process Advocacy project from 1993 to 1999. Building on the Due Process Advocacy project, the Juvenile Defender Center project is designed to facilitate the development of a permanent training and technical assistance capability for juvenile defenders in the United States. Improving the capabilities and skills of juvenile defenders will strengthen the juvenile justice system and provide greater assurance that juveniles charged with delinquency will receive the due process and adequate representation they are guaranteed under the U.S. Constitution.

Over the past year, the ABA and its project partners (the Juvenile Law Center and the Youth Law Center) have completed planning for the implementation of the program, held the third National Juvenile Defenders Summit at Georgetown University Law School in Washington, DC, and participated in the planning and implementation of the Office of Justice Programs' National Defenders Conference in June 2000. In accordance with grant timelines, the ABA competitively selected and funded eight Regional Juvenile Defender Centers, designed to provide services to the juvenile defense bar on a regional level. The ABA also organized and held forums on representing female juvenile offenders and on representing juveniles who have mental health problems. The ABA and its project partners are planning the fourth Juvenile Defender Summit, which will take place in Houston, TX, in October 2000. The ABA also continues to provide national technical assistance and materials to assist juvenile defenders with their cases. A unique funding mechanism, used for the first time with this grant program, provides incentive funds to the ABA to the extent it can raise additional funds in the private sector or obtain in-kind services. The ABA and its partners have been highly successful in raising funds and obtaining donated resources. The success of these efforts underscores the importance of the juvenile defense issue to the private funding community.

This project will be continued in FY 2001 by the current grantee, the American Bar Association. No additional applications will be solicited in FY 2001.

Juvenile Justice Prosecution Unit

The goal of this project, first funded in FY 1995, is to increase and improve prosecutor involvement in juvenile justice. FY 2001 is the final year of the project period. The grantee, the American Prosecutors Research Institute (APRI), the training and technical assistance arm of the National District Attorneys Association, identifies prosecutor training and technical assistance needs in the juvenile justice area through ongoing assessment by a working group of experienced prosecutors. The project designs and presents specialized training events for elected and appointed district attorneys and juvenile unit chiefs. The training deals with prosecutor leadership roles in the juvenile justice system and with the clarification or resolution of important juvenile justice issues. Such issues include juvenile policy, code revisions, resource allocation, charging, transfer to criminal court, alternative juvenile programs, confinement, record confidentiality, and collaboration with other agencies. Training also addresses the role of other areas in juvenile justice, such as community prosecution, community justice, restorative justice, community assessment centers, and mental health concerns. In addition, APRI develops training and reference materials pertaining to significant juvenile justice topics.

The project has developed workshop and training materials and a “Compendium of Programs” operated or supported by prosecutor offices. The grantee presents six or more training events each year, including special issues seminars dealing with delinquency prevention, crime on campus, and other topics of interest to prosecutors. The project advisory group, made up of both chief and deputy prosecutors, advises APRI staff on training topics and also serves as training faculty.

Recent APRI training topics and workshops have included a “train the trainer” course; a Juvenile Justice Leadership Summit; a Juvenile Justice Track (a number of seminars) at the annual National District Attorneys Association conference and a Juvenile Justice Prosecution Track (a number of seminars) at the National Conference on Juvenile Justice; a Juvenile Justice Prosecution course with a distance learning component; and several additional workshops in conjunction with the Juvenile Accountability Incentive Block Grants Jumpstart program. Two special issues workshops are currently under development. Over the past year, APRI has trained more than 600 juvenile justice prosecutors. The APRI Juvenile Justice project also provides technical assistance, usually in the form of responses to requests for information on subjects related to juvenile justice.

This project will be implemented by the current grantee, the American Prosecutors Research Institute. No additional applications will be solicited in FY 2001.

Juvenile Residential Facility Census

OJJDP designed this new census to collect important information on facility characteristics, services provided in juvenile facilities, and conditions within those facilities. It provides a biennial census of residential facilities used by the juvenile justice system to hold youth accused of or adjudicated for an offense. The data collection forms will be mailed to each facility for completion by facility personnel. The Juvenile Residential Facility Census (JRFC) will collect information on health care services, mental health counseling or treatment, substance abuse treatment, and education. The questions in the census will also determine whether youth in the facility have access to the specific services (the methods used in the census cannot make evaluative statements on the quality of those services). The JRFC will also ask specific questions about the nature of the facility itself. It contains a series of questions that get at conditions of confinement. A series of questions on the number of beds used (including makeshift beds) permit some analysis of whether the facility (or part of the facility) is crowded. Other questions ask about the use of isolation or restraints. Finally, the JRFC will collect information on any deaths in custody. The census was tested in October 1998. The first full JRFC will be conducted in October 2000, and the data collected will be available for public use by December 2001.

This project would be implemented through the extension of an existing interagency agreement with the Bureau of the Census, Governments Division and Statistical Research Division. No additional applications would be solicited in FY 2001.

Longitudinal Study To Examine the Development of Conduct Disorder in Girls

The purpose of this project, which began in FY 1998, is to examine the development of conduct disorder in a sample of 2,500 inner-city girls who were ages 6 to 8 at the beginning of the study. The study is following the girls annually for 5 years and will provide information that is critical to the understanding of the etiology, comorbidity, and prognosis of conduct disorder in girls. This project is important because delinquency in girls has been steadily increasing over the past decade and a better understanding of the developmental processes in girls will help in identifying effective means of prevention and provide direction for juvenile justice responses to delinquent girls. In the upcoming year, the program will continue data collection.

The project will be implemented under an interagency agreement with the National Institute of Mental Health by the current NIMH grantee, the University of Pittsburgh. No additional applications will be solicited in FY 2001.

National Juvenile Justice Data Analysis Project

In FY 1999, the National Juvenile Justice Data Analysis Project (NJJDAP) was funded to provide research and analysis into a wide variety of juvenile justice issues including juvenile placement, custody, arrests, victimization, and juvenile offending. However, the topics of interest to juvenile professionals are not limited to these typical justice topics. As research expands, the field is learning more and more about the intersection of between delinquency and other problems such as mental health disorders, education needs, and physical injury. Information about these problems can help in the design of effective prevention or intervention measures and also indicate what problems the justice system will face in dealing with delinquent youth. NJJDAP will examine issues of concern through cooperating with experts in related fields of interest and by using data collected in those fields. This project produces quick, unique analyses of these issues for publication by OJJDP. The intent is not to develop a unique research design for the individual questions. Rather, it is to address the individual questions within the context of existing data. Frequently, different data sets can be brought to bear on specific topics, giving a wider perspective on the particular topic at hand.

In the coming year—the third year of a 3-year project period, NJJDAP will expand its roster of available consultants who can provide either data analysis expertise or knowledge on particular aspects of adolescent development, juvenile delinquency, or the justice system. The NJJDAP will also broaden its reach for innovative data sets to State and local levels. Currently, the project has focused its energy on national data; however, as questions arise concerning school victimization or recidivism, it is apparent that only State-level data sets are suitable for such analyses.

This project will be implemented by the current grantee, the National Center for Juvenile Justice. No additional applications will be solicited in FY 2001.

National Juvenile Justice Program Directory

To conduct statistical projects, OJJDP and the Census Bureau require a support infrastructure that enables the necessary survey tasks to be performed efficiently and effectively. This infrastructure includes as a basic component the maintenance of a list or frame of all survey or sampling units. For example, the surveying of residential facilities could not take place without a list of such facilities. Indeed, as OJJDP moves toward surveying these facilities once a year, this list must be maintained continuously. Also, as the Office moves toward surveying juvenile probation offices, OJJDP and the Census Bureau will need a current list of all such offices in the United States. Other areas of interest might include juvenile courts, police departments, State agencies, etc. The maintenance of the lists includes contacting various key State and local officials or practitioners who can provide the names of agencies or facilities associated with their respective agencies. It also requires maintaining current contact information for these agencies or facilities. Finally, it requires developing and updating a database of these facilities that contains information necessary for sampling or stratification purposes. This ongoing project fills the need for lists of juvenile agencies, programs, and facilities.

This project would be conducted under an extension to an existing interagency agreement with the Bureau of the Census, Governments Division. No additional applications would be solicited in FY 2001.

The National Longitudinal Survey of Youth 97

OJJDP proposes to continue to support the third round of data collection, begun in FY 1997, by the National Longitudinal Survey of Youth 97 (NLSY97) under an interagency agreement with the Bureau of Labor Statistics (BLS). The NLSY97 is studying school-to-work transition in a nationally representative sample of 8,700 youth ages 12 to 16 years old. BLS is also collecting data on the involvement of these youth in antisocial and other behavior that may affect their transition to productive work careers. The survey will provide information about risk and protective factors related to the initiation, persistence, and desistance of delinquent and criminal behavior and provides an opportunity to determine the generalizability of findings from OJJDP's Program of Research on the Causes and Correlates of Delinquency and other longitudinal studies to a nationally representative population of youth.

The program would be implemented through the extension of an existing interagency agreement with the Bureau of Labor Statistics. No additional applications would be solicited in FY 2001.

Performance-Based Standards for Juvenile Correction and Detention Facilities

Performance-Based Standards for Juvenile Correction and Detention Facilities, a program that began with a competitive OJJDP cooperative agreement awarded to the Council of Juvenile Correctional Administrators (CJCA) in FY 1995, has developed a performance management system for juvenile correctional facilities. The system provides tools for monitoring and improving outcomes in six critical facility functions: providing security, safety, order, health care, educational, and mental health programming within a context that protects individual rights. In 1999, 32 facilities, including 2 State systems, began the implementation process, which consists of the collection and analysis of baseline data; the development of an initial facility improvement plan, which may include financial support to make improvements; and reassessment and revision of the facility improvement plan.

During FY 2000, the program underwent refinements to improve management of the process for the facilities. In addition, approximately 26 new sites began the process, using streamlined data collection and new diagnostic tools. In addition to working with the participating facilities during the past year, the project finalized the implementation model; revised instruments, as needed; and developed criteria for determining full implementation, including the testing of community release measures. Where appropriate, the project has established performance benchmarks and developed analytical reports regarding facility and system change that occurred in the test sites. Additionally the project has produced an interactive Web site for secure entry of data and receipt of feedback in the form of Site Reports and access to the diagnostic pages of the development of Facility Improvement Plans.

FY 2001 funding would provide the resources needed for full onsite training, technical and financial assistance, and data quality assurance assessments for the additional facilities currently receiving only limited support and continued support of two additional rounds of reporting for all sites. The performance measures and data collection tools for the community reintegration component would be field tested and incorporated into the Site Reports and Facility Improvement Plans. Additional technical and financial assistance would be provided for the development or modification of State Agency management information systems to accommodate reporting requirements for more fluid integration with online management reporting. The project would also complete the revisions of staff and youth interview protocols and related data collection and reporting components so that they are compatible with the final design of OJJDP's new Survey of Youth in Residential Placement instrument. This will allow for future comparison of results from the sites participating in this project with a national sample of youth facilities. Also, a series of research summaries regarding performance trends and improvements in various domains will be developed to inform the field about promising practices in improving specific outcomes.

This program would be implemented by the current grantee, the Council of Juvenile Correctional Administrators. No additional applications would be solicited in FY 2001.

Study Group on Very Young Offenders

Modeled after the OJJDP Study Group on Serious and Violent Juvenile Offenders, this project is exploring what is known about the prevalence and frequency of very young (under the age of 13) offending. In FY 1998, OJJDP supplemented a grant to the University of Pittsburgh, the grantee for the Study Group on Serious and Violent Juvenile Offenders. The Study Group on Very Young Offenders is examining whether such offending predicts future delinquent or criminal careers, how these youth are handled by various systems including juvenile justice, mental health, and social services; and what methods are best for preventing very young offending and persistence of offending. In FY 2001, the project would disseminate the results of its research to the public, policymakers, and practitioners.

This program would be implemented by the current grantee, the Western Psychiatric Institute and Clinic at the University of Pittsburgh. No additional applications would be solicited in FY 2001.

Systems Improvement Training and Technical Assistance

In FY 1999, OJJDP competitively awarded funds to the Institute for Educational Leadership (IEL) to provide training and technical assistance to strengthen and sustain the capacity of SafeFutures and Safe Kids/Safe Streets demonstration sites in order to assist them with systems change activities. The project seeks to help sites (1) address their system goals and effectively address challenges, (2) educate and inform other communities and the juvenile justice field about how they can more effectively pursue community-based systems reform, (3) enhance the skills of community and staff leadership so they are better able to sort through the complexities of systems reform, and (4) build the overall capacity of the selected sites to engage in strategic planning, develop policies and programs, and build community collaboratives to address specific substantive challenges and achieve measurable results.

Since the project was awarded, IEL has established a pool of consultants with expertise in areas related to systems improvement activities; developed resources useful to communities addressing issues critical to systems improvement, including using data effectively, achieving sustainability, and building consumer capacity and cultural competence; and provided assistance to Safe Kids/Safe Streets sites.

In FY 2001, OJJDP would continue to fund the project in order to further provide assistance to selected OJJDP grantee communities interested in systems reform and change and to begin disseminating “lessons learned” to other communities.

This project would be implemented by the current grantee, Institute for Educational Leadership. No additional applications would be solicited in FY 2001.

Survey of Juvenile Probation

This project will design a survey instrument and survey methodology that OJJDP can use to routinely monitor the number and types of juveniles on probation. Probation has been an understudied segment of the juvenile justice system, yet it has been described as the workhorse of that system. OJJDP began this project in 1997 through an interagency agreement with the U.S. Census Bureau. The project has several phases. The first phase includes open-ended structured interviews with probation officers at the State and local levels in 10 States. Based on these interviews, the Census Bureau and OJJDP will develop a draft instrument designed to collect contact information for each office as well as stratifying information (e.g., number of youth supervised, number of officers, etc.). Phase II will include both cognitive interviews to test this first instrument (intended to be a census of probation offices) and structured interviews for the development of the probation survey. Based on these interviews, the Center for Survey Methods Research and the Governments Division of the Census Bureau will develop a feasibility test. This test will examine how well the forms work in collecting the necessary information from a small number of States. Phase III will include the development of the survey instrument and cognitive tests of this instrument in a number of probation offices. The final phase, Phase IV, will consist of a feasibility test of the final survey instrument. The Center for Survey Methods Research has completed Phase I of this project and will deliver to OJJDP a draft instrument in early 2001. Phase II of the project will start shortly after that point. OJJDP anticipates the first Survey of Juvenile Probation will take place in calendar year 2002.

This project would be conducted through an interagency agreement with the Bureau of the Census. No additional applications would be solicited in FY 2001.

Technical Assistance to Native American Tribes and Alaskan Native Communities

The Technical Assistance to Native American Tribes and Alaskan Native Communities project is designed to equip tribal governments with the necessary information and tools to enhance or develop comprehensive, systemwide approaches to reduce juvenile delinquency, violence, and victimization and increase the safety of their communities. In FY 1997, OJJDP awarded a 3-year cooperative agreement to American Indian Development Associates (AIDA) to provide training and technical assistance to Indian nations seeking to improve juvenile justice services to children, youth, and families.

Throughout FY's 1998 and 1999, AIDA continued to provide technical assistance to Indian nations and developed information materials for Indian juvenile justice practitioners, administrators, and policymakers. Topic areas covered Indian youth gangs; personnel competency building, such as conducting effective preadjudication investigations and preparing reports; developing protocols to implement Tribal Children's Code provisions that affect Native American children; establishing sustainable, comprehensive community-based planning processes that focus on the needs of tribal youth; and developing and implementing culturally relevant policies, programs, and practices. The technical assistance and materials also addressed the overlapping roles and jurisdiction of Federal, State, and tribal justice systems, particularly in understanding the laws and public policies applicable to or effective in Indian communities.

AIDA recorded 74 training and technical assistance events in FY 2000, including 33 workshops. Technical assistance provided to the Indian nations included juvenile justice systems planning development, early intervention program training, application of indigenous justice and restorative justice practices, focus group processes and methodology, needs assessment development, and data collection. Three of the completed projects had multiregional representation, and five of the completed projects had a wider tribal representation. The Indian nations were from 6 regions: Midwest (8); Northwest (2), South Central (3), Southeast (2), and Southwest (10). Some projects featured collaboration with State and Federal organizations, bureaus, and agencies.

In FY 2001, AIDA would provide continuing training and technical assistance to tribes seeking to develop and enhance their juvenile justice systems with emphasis in the following areas: developing a community-based secondary prevention program, developing a tribal justice probation system, developing multidisciplinary approaches to youth gang violence prevention, establishing risk assessment and classification systems, developing comprehensive strategies to handle offenders, expanding referral and service delivery systems, developing cooperative interagency and intergovernmental relationships, and developing technology to improve systems and increased access to juvenile justice information.

A new solicitation would be issued and a grant awarded through a competitive process in FY 2001.

TeenSupreme Career Preparation Initiative

In FY 1998, OJJDP, in partnership with the U.S. Department of Labor's (DOL's) Employment and Training Administration, provided funding support to the Boys & Girls Clubs of America to demonstrate and evaluate the TeenSupreme Career Preparation Initiative. This initiative provides employment training and other related services to at-risk youth through local Boys & Girls Clubs with TeenSupreme Centers. In FY 2001, DOL will transfer funds to OJJDP to support program staffing in 41 existing TeenSupreme Centers. These 41 clubs have hired employment specialists to work with up to 120 youth. Boys & Girls Clubs of America provides intensive training and technical assistance to each site and administrative and staffing support to the program from its national office. OJJDP funds support the process and impact evaluation component of the program, which is being implemented by an independent evaluator. In FY 2001, the Boys & Girls Clubs of America, with DOL funds, will select new career preparation sites. OJJDP would continue supporting the evaluation component.

This TeenSupreme initiative would be implemented by the current grantee, the Boys & Girls Clubs of America. No additional applications would be solicited in FY 2001.

Child Abuse and Neglect and Dependency Courts

National Evaluation of the Safe Kids/Safe Streets Program

OJJDP will continue funding the grant competitively awarded in FY 1997 to Westat, Inc., Rockville, MD, for the National Evaluation of the Safe Kids/Safe Streets Program. The evaluation has three main goals: to document and explicate the process of community mobilization, planning, and collaboration taking place before and during the Safe Kids/Safe Streets award; to inform program staff of performance levels on an ongoing basis; and to determine the effectiveness of the implemented programs in achieving the goals of the Safe Kids/Safe Streets program. The initial 18-month grant began a process evaluation and a feasibility study for a future impact evaluation. In FY 2001—the fifth year of a 5-year project period, Westat will continue the process evaluation, which will focus on tracking the implementation efforts at each of the sites, and will continue working with local evaluators to develop their skills and capacity for program evaluation. Westat has recently submitted a plan for the impact evaluation, which includes a pilot study of their proposed case tracking procedure.

This evaluation will be implemented by the current grantee, Westat, Inc. No additional applications will be solicited in FY 2001.

Safe Kids/Safe Streets: Community Approaches To Reducing Abuse and Neglect and Preventing Delinquency

This 5-year demonstration is designed to break the cycle of early childhood victimization and later delinquency and criminality by reducing child and adolescent maltreatment and fatalities. Several components of the Office of Justice Programs joined in FY 1996 to develop this coordinated community response program. These components provide fiscal and technical support for local efforts to restructure and strengthen the justice system and the child welfare, family services, education, health, and related systems to be more comprehensive and proactive in helping children, adolescents, and their families. Safe Kids requires the five funded sites to develop, implement, and/or expand cross-agency strategies and to partner with natural networks in their communities. OJJDP awarded competitive cooperative agreements in FY 1997 to five sites (Chittenden County, VT; Huntsville, AL; Kansas City, MO; the Sault Ste. Marie Tribe of Chippewa Indians, MI; and Toledo, OH). Funds were provided by OJJDP, the Executive Office for Weed and Seed, and the Violence Against Women Office. FY 2001 is the fourth year of a 5-year project period.

This demonstration will continue to be implemented in FY 2001 by the current grantees: Chittenden County, VT; Huntsville, AL; Kansas City, MO; the Sault Ste. Marie Tribe of Chippewa Indians, MI; and Toledo, OH. No additional applications will be solicited in FY 2001.

Dated: September 21, 2000.
John J. Wilson,
Acting Administrator, Office of Juvenile Justice and Delinquency Prevention.

[FR Doc. 00-24699 Filed 9-25-00; 8:45 am]

BILLING CODE 4410-18-P